DEPARTMENT OF TRANSPORTATION

National Highway Traffic Safety Administration

49 CFR Part 571

[DOT Docket No. NHTSA-2007-0040]

RIN 2127-AJ57

Federal Motor Vehicle Safety Standards; Cargo Carrying Capacity

AGENCY: National Highway Traffic Safety Administration (NHTSA), DOT.

ACTION: Final rule.

SUMMARY: In this final rule, we (NHTSA) address the problem of motor home and recreation vehicle trailer overloading by amending the Federal Motor Vehicle Safety Standards (FMVSS) on tire selection and rims.

This final rule requires manufacturers of all motor homes and recreation vehicle trailers to provide information to consumers in a label that informs the consumer about the vehicle's load carrying capacity. This information is helpful both at the time the consumer is making a purchase decision and as the consumer uses his or her vehicle. We also require that the size of tires on motor homes and recreation vehicle trailers be the same as the size of the tires listed on the tire information label.

In addition, this rule provides regulatory relief for dealers from a labeling requirement in the safety standard on tire selection and rims for light vehicles. The standard's requirement can currently require dealers which add even small amounts of weight to re-label the vehicles. Under today's amendment, any party that adds weight to a completed vehicle exceeding the lesser of 1.5 percent of the vehicle's gross vehicle weight rating or 100 pounds (before first sale to the retail customer) is required to disclose this extra weight on labels affixed to the vehicles. Lesser amounts of weight may be added without changing or adding labels.

It is our belief that this rule complements the efforts of the recreation vehicle industry to provide consumers with information in order to help reduce overloading motor homes and recreation vehicle trailers. This rulemaking was initiated in response to a petition from Ms. Justine May.

DATES: Effective date: The effective date for this final rule is June 2, 2008. Optional immediate compliance is available as of December 4, 2007.

Petitions for reconsideration: Petitions for reconsideration of the final rule must be received not later than January 18, 2008.

ADDRESSES: Petitions for reconsideration of the final rule must refer to the docket and notice number set forth above and be submitted to the Administrator, National Highway Traffic Safety Administration, 1200 New Jersey Avenue, SE., Washington, DC 20590.

FOR FURTHER INFORMATION CONTACT: For non-legal issues, you may call Mr. William D. Evans, Office of Crash Avoidance Standards at (202) 366-2272. His FAX number is (202) 366-2990.

For legal issues, you may call Ms. Dorothy Nakama, Office of the Chief Counsel at (202) 366-2992. Her FAX number is (202) 366-3820.

You may send mail to both of these officials at National Highway Traffic Safety Administration, 1200 New Jersey Avenue, SE., Washington, DC 20590.

SUPPLEMENTARY INFORMATION:

Table of Contents

I. Background

A. The May Petition

B. Joint Industry Petition for Rulemaking and Interim Relief Concerning Standard No. 110 Issues

II. Notice of Proposed Rulemaking of August 31, 2005

III. Overview

A. Summary of Comments

B. Summary of the Final Rule

C. Summary of Significant Differences Between the NPRM and the Final Rule

IV. Public Comments and NHTSA's Response

A. Applicability of This Final Rule

1. Whether the Final Rule Should Apply to All RVs, Not Just to RVs with Gross Vehicle Weight Ratings Greater than 4,536 Kilograms (10,000 Pounds)

2. Excluding Light RVs from FMVSS No. 110 Labeling Requirements

B. Definitions

1. NPRM

2. The Definition of “Travel Trailer” and “Motor Home”

3. NPRM's Term “Tongue Load Rating” for RV Trailers

C. GVWR, GAWR and Tire Load Information for Motor Homes and Recreation Vehicle Trailers

1. NPRM

2. Requirement that Heavy RVs be Delivered to the Customer With the Same Size Tires That are Listed on the Vehicle Certification Label or Tire Information Label

3. Whether the “Make Inoperative” Prohibition Applies to the FMVSS No. 110 Vehicle Placard and Optional Tire Inflation Pressure Label

D. Determining Occupant Capacity Weight

1. NPRM

2. RV Occupant Capacity Weight (OCW) and the Weight of a Standard Occupant

E. Location of Labels

1. NPRM

2. Revised RV Load Carrying Capacity Labels

3. Label Locations for Heavy RVs and All Light Vehicles

4. Location of the FMVSS No. 110 Load Carrying Capacity Modification Label

F. Label Format and Content

1. NPRM

2. Revised RV Load Carrying Capacity Labels

G. Addition of Weight to FMVSS No. 110 Vehicles and FMVSS No. 120 Motor Homes and Travel Trailers Between Vehicle Certification and First Retail Sale of the Vehicle

1. Proposal Concerning FMVSS No. 110

2. Proposal Concerning FMVSS No. 120

3. Comments and Decision Concerning Weight Added to Heavy RVs and All Light Vehicles After Final Vehicle Certification and Before First Retail Sale

H. Other Issues

1. Whether the Final Rule Should Protect Against Overloading Tires, Wheels, Axles and Suspensions on RVs

2. RV Weight and Weighing Issues

3. Numbering in Proposed FMVSS No. 110 Regulatory Text

4. Scope of Notice for Joint Petition Issues

5. Response to Issues of the Joint Petition

6. The Meaning of “Stated Weight Ratings” on FMVSS No. 110 Placards

7. Issues Outside the Scope of this Rulemaking

V. Final Rule

VI. Leadtime

VII. Regulatory Analyses and Notices

A. Executive Order 12866 and DOT Regulatory Policies and Procedures

B. Executive Order 13132 (Federalism)

C. Executive Order 13045 (Economically Significant Rules Affecting Children)

D. Executive Order 12988 (Civil Justice Reform)

E. Regulatory Flexibility Act

F. National Environmental Policy Act

G. Paperwork Reduction Act

H. National Technology Transfer and Advancement Act

I. Unfunded Mandates Reform Act of 1995

J. Plain Language

K. Regulation Identifier Number (RIN)

Final Rule Regulatory Text

I. Background

A. The May Petition

In a petition dated January 21, 2000, Ms. Justine May petitioned NHTSA to amend Federal Motor Vehicle Safety Standard (FMVSS) Number 120, Tire selection and rims for motor vehicles other than passenger cars. Ms. May requested that FMVSS No. 120 be revised in such a way that motor vehicles would be equipped with tires that meet maximum load standards when the vehicle is loaded with a reasonable amount of luggage and the total number of passengers the vehicle is designed to carry. Ms. May's stated reason for her petition was her family's personal experience with a fifth-wheel travel trailer. She stated that there was no information provided with her trailer stating its cargo carrying capacity (CCC). Ms. May believes that loading her vehicle with cargo for a trip placed it in an overloaded condition, resulting in tire blowouts. The agency granted Ms. May's petition for rulemaking.

B. Joint Industry Petition for Rulemaking and Interim Relief Concerning Standard No. 110 Issues

Prior to publication of an NPRM addressing the May petition, NHTSA received a Joint Petition for Rulemaking and Interim Relief concerning certain FMVSS No. 110 provisions that were scheduled to take effect on September 1, 2005 regarding vehicle capacity weight and tire information. The Joint Petition ¹ requested a notice of interim final rulemaking authorizing or clarifying that the vehicle capacity weight statement required by FMVSS No. 110 allows for a reasonable tolerance, that vehicle capacity weight be labeled as “estimated” and as “originally manufactured,” that placards/labels may be modified rather than replaced and that shipping weight or weight determined by scales of reasonable accuracy may be used to determine the additional weight of equipment added to vehicles.

¹ “Joint Petition” means the “Joint Petition for Rulemaking and Interim Relief; Federal Motor Vehicle Safety Standard (FMVSS) No. 110; Vehicle Capacity Weight and Tire Information” dated July 29, 2005 which was submitted to NHTSA by a group of trade organizations through Mike Kastner (NTEA) and Douglas Greenhaus (NADA). The document is available in docket NHTSA-2005-22242-3.

II. Notice of Proposed Rulemaking of August 31, 2005

On August 31, 2005, NHTSA published in the Federal Register (70 FR 51707) (DMS Docket No. NHTSA-2005-22242), the NPRM to address the problem of motor home and travel trailer overloading. The agency explained in some detail the safety need for the proposed rule, which would help to prevent motor home and travel trailer overloading.² NHTSA cited data from the Recreation Vehicle Industry Association (RVIA) regarding the number of recreation vehicles and from the Recreation Vehicle Safety Education Foundation (RVSEF) showing the scope of the overloading problem. The agency described characteristics of motor homes and travel trailers, explaining how they may become overloaded, and cited cargo carrying capacity-related consumer information and labels that are currently required by NHTSA. Finally, NHTSA described cargo carrying capacity consumer information and labels currently required or recommended by Transport Canada and the RVIA.

² For a full explanation of the safety need for the rulemaking, and data cited in support, please refer to the NPRM of August 31, 2005 at 70 FR 51707.

In the NPRM, we also included several provisions to address the Joint Petition concerning FMVSS No. 110. Included was a proposal to permit dealers to add weight up to 0.5 percent of the GVWR (of a vehicle subject to FMVSS No. 110) before first retail sale, without need for the dealers to re-label or re-placard the vehicle.

III. Overview

A. Summary of Comments

In response to the NPRM, NHTSA received comments from the following: Adaptive Driving Alliance (ADA); Alliance of Automobile Manufacturers (Alliance); Association of International Automobile Manufacturers (AIAM); Marine Retailers Association of America (MRAA); National Association of Trailer Manufacturers (NATM); National Automobile Dealers Association (NADA); National Marine Manufacturers Association (NMMA); National Mobility Equipment Dealers Association (NMEDA); National RV Dealers Association (RVDA); National Trailer Dealers Association (NTDA); National Truck Equipment Association (NTEA); Recreation Vehicle Industry Association (RVIA); Rubber Manufacturers Association (RMA); Mr. Nate J. Seymour (Seymour); Specialty Equipment Market Association (SEMA); Toyota Motor North America, Inc. (Toyota); Mr. James Weston (Weston); and Mr. Tim Walker (Walker).

Many of the commenters addressed the applicability of the proposed rule, and recommended that the final rule should apply to all motor homes and travel trailers, not just those with GVWRs over 4,536 kg (10,000 pounds). We were also asked to simplify the definition of “occupant capacity weight.” Some commenters, notably the RVIA, asked NHTSA to specify multiple locations (three) for the labeling information. There were recommendations for more detailed information on cargo carrying capacity, including definitions of GVWR, unloaded vehicle weight, and cargo carrying capacity, and a request for NHTSA to provide more guidance on the effects of dealer installed equipment on cargo carrying capacity and the distribution of cargo.

Reiterating issues raised in previous rulemakings, and interpretation letters, some commenters asked for revisions in FMVSS No. 110 vehicle (tire) placarding ³ requirements. Relief was also supported for instances when weight is added to a vehicle after final vehicle certification and before first retail sale. Many commenters stated that the relief proposed in the NPRM, 0.5 percent of vehicle GVWR, was too low.

³ For purposes of this document, “tire placard” means the vehicle placard required by S4.3 of FMVSS No. 110.

B. Summary of the Final Rule

After considering the public comments, and for the reasons discussed in detail later in this document, we have decided to require all motor homes and recreation vehicle (RV) trailers to bear a label that informs the consumer about the vehicle's load carrying capacity. The final rule defines the term “recreation vehicle trailer” rather than using the term proposed in the NPRM, “travel trailer.” We also require that the size of tires on motor homes and RV trailers be the same as the size of tires listed on the tire information label.

For motor homes and RV trailers, we require labels that display the VIN, the weight of a full load of water, the unit weight of water and a cautionary statement that the weight of water is part of cargo. Motor home labels must display the maximum weight of occupants and cargo and RV trailer labels must display the maximum weight of cargo. In addition, for motor homes, the label must show the safety belt equipped seating capacity and must indicate that the tongue weight of a towed trailer counts as cargo.

To promote a consistent conspicuous label location, this final rule specifies that permanent load carrying capacity labels be affixed to the interior of the forward-most exterior passenger door on the right side of the vehicle and be visible. As an alternative (to address aesthetic considerations) the rule permits manufacturers to place a temporary label to the interior of the forward-most exterior passenger door on the right side of the vehicle and apply a permanent label in the area of the vehicle specified by FMVSS Nos. 110 and 120 for tire information.

In addition, this final rule adopts a threshold for correcting load carrying capacity information on tire placards, motor home occupant and cargo carrying capacity (OCCC) labels and RV trailer CCC labels of the lesser of 1.5 percent of GVWR or 100 pounds, greatly decreasing the need to correct the information. When correction of load carrying capacity is needed, this rule permits the use of generic labels where corrected values can be legibly entered using a black, fine point, indelible marker. This permits dealers to stock one generic load carrying capacity modification label.

In this final rule, the addition of the load carrying capacity modification label is one of three options that can be used to correct load carrying capacity information when dealer added weight exceeds the threshold. Dealers/service facilities are permitted to: (1) Replace existing tire placards, motor home OCCC labels or RV trailer CCC labels with new placards/labels containing correct load carrying capacity information; (2) modify existing tire placards, motor home OCCC labels or RV trailer CCC labels so they display correct load carrying capacity information; or (3) add a load carrying capacity modification label within 25 mm of the existing tire placard and/or the motor home OCCC label or RV trailer CCC label.

C. Summary of Significant Differences Between the NPRM and the Final Rule

This final rule differs from the August 2005 NPRM in the following significant ways. In the NPRM, NHTSA proposed that the rule apply to motor homes and travel trailers with GVWRs greater than 4,536 kg (10,000 pounds). This final rule applies to all motor homes and recreation vehicle trailers, regardless of GVWR. In the NPRM, NHTSA proposed that in determining cargo carrying capacity, that the occupant capacity weight be determined. In this final rule, we adopt labels that display the maximum weight allotted for both occupants and cargo. In the NPRM, NHTSA proposed one location for the permanent label—affixed to the interior of the forward-most exterior passenger door on the right side of the vehicle. This location has been adopted in the final rule. In addition, the final rule permits manufacturers the option of placing a temporary label in the specified location and applying an identical permanent label in the area of the vehicle specified by FMVSS Nos. 110 and 120 for tire information.

In the NPRM, NHTSA proposed for both FMVSS No. 110 and 120 vehicles, that if weight greater than 0.5 percent of GVWR is added by the dealer before first retail sale, the dealer would be required to correct the stated load carrying capacity information. In the final rule, the weight has been adjusted to the lesser of 1.5 percent of GVWR or 100 pounds.

Finally, in the NPRM, NHTSA proposed labels with detailed information on how the cargo carrying capacity is calculated. In this final rule, we adopt labels that have been simplified.

IV. Public Comments and NHTSA's Response

A. Applicability of This Final Rule

1. Whether the Final Rule Should Apply to All RVs, Not Just to RVs with GVWRs Greater Than 4,536 kg (10,000 pounds)—In the NPRM, NHTSA proposed that the new labeling rule apply to motor homes and travel trailers over 4,536 kg (10,000 pounds). Seymour, the RVDA and the RVIA all commented that the proposed RV labeling requirements should not be limited to motor homes and travel trailers with GVWRs over 4,536 kg (10,000 pounds) but should apply to all RVs.

RVDA commented that the proposed CCC labels for heavy RVs ⁴ provide useful information for both consumers and dealers. It argued that consumers who purchase light RVs should also have the benefit of the same detailed information. RVDA also indicated that if the proposed regulatory text was made final, there would be three different labels for RVs: (1) Heavy RVs would have the FMVSS No. 120 CCC label which would most likely replace the RVIA label; (2) Light RVs would have the FMVSS No. 110 tire placard with load carrying capacity information; and (3) Most light RVs may also have a more detailed RVIA label. According to that organization, these different labels for heavy RVs versus light RVs may confuse consumers.

⁴ Throughout this document, “light RV” means a recreation vehicle with a GVWR of 4,536 kg (10,000 pounds) or less. “Heavy RV” means a recreation vehicle with a GVWR of more than 4,536 kg. Motor homes, travel trailers (as proposed to be defined in the NPRM) and recreation vehicle trailers are all subgroups of recreation vehicles (RVs).

RVIA commented that the majority of “travel trailers,” some smaller motor homes and virtually all RV conversion vehicles ⁵ have GVWRs of 4,536 kg (10,000 pounds) or less and are subject to the FMVSS No. 110 load carrying capacity labeling requirements. Travel trailers with GVWRs greater than 4,536 kg (10,000 pounds) and most motor homes would be subject to the proposed FMVSS No. 120 NPRM CCC label. RVIA recommended consistency of the information provided to RV consumers regardless of the RV's size. RVIA stated that all RVs regardless of their GVWRs have the primary function of providing mobile, temporary, on-site living quarters, and all contain residential features such as sleeping accommodations, bathrooms, cooking facilities, water storage and cargo storage.

⁵ As defined by RVIA, conversion vehicle means vans, SUVs and pickup trucks that are manufactured by an automaker, then altered for recreational use by a company specializing in customizing vehicles.

RVIA cited its 2004 sales statistics that approximately 250,300 RVs shipped were light RVs and would be subject to FMVSS No. 110 requirements, and approximately 112,300 RVs shipped were heavy RVs and would be subject to FMVSS No. 120 requirements. RVIA said that if the proposed CCC label requirements are limited to heavy RVs, a large portion of the overloading problem would not be addressed and different labels for different classes of RVs would confuse consumers, minimizing the benefits of the new RV labeling requirements.

Since NHTSA seeks to apply the load carrying capacity label requirements most effectively, it has decided to apply the new requirements to all RVs that fit the appropriate definitions, regardless of GVWR. We believe this is a logical outgrowth of the proposal, and note that the request for wider applicability came from the RVIA and RVDA which represent approximately 95 percent of the RV industry, consisting of many small businesses. As they explained in the comments, both light and heavy RVs have similar uses, loading characteristics, and overloading issues; a substantial number of RVs sold have GVWRs of 4,536 kg (10,000 pounds) or less. Applying this final rule to all RVs will require RV load carrying capacity label requirements to appear in both Standard Nos. 110 and 120.

We note that since the August 2005 NPRM was published, amendments to Standard Nos. 110 and 120 took effect on September 1, 2005. Before the amendments, Standard No. 110 applied to passenger cars and Standard No. 120 applied to other vehicles. After the amendments took effect, Standard No. 110 applies to vehicles with GVWRs of 4,536 kg (10,000 pounds) or less, and Standard No. 120 applies to vehicles with a GVWR of more than 4,536 kg (10,000 pounds).

2. Excluding Light RVs from FMVSS No. 110 Labeling Requirements—As part of its recommended labeling format, RVIA suggested that light RVs be excluded from the labeling requirements of FMVSS No. 110, and RVs only be subject to RVIA's suggested format. If adopted, RVIA's recommendation would mean that for light RVs, load carrying capacity information would not be required on the FMVSS No. 110 tire placard. Manufacturers that are RVIA members would place RVIA's suggested small label with similar load carrying capacity information in the same area as the tire placard.

NHTSA has decided not to change the existing tire placard requirements in FMVSS No. 110. Some of these requirements have recently become effective and additional amendments are scheduled to become effective in the near future. However, in this final rule, NHTSA is adding additional language to FMVSS Nos. 110 and 120 in order to accommodate the RV load carrying capacity labeling requirements. As more fully explained in the section titled “Location of Labels,” this final rule has an alternative labeling scheme that prevents duplication of information when both a tire placard and a motor home OCCC label or RV trailer CCC label are located in the same area of the vehicle.

B. Definitions

1. NPRM—In the August 2005 NPRM, NHTSA proposed that the rule apply to motor homes and travel trailers. We proposed to revise the definition of “motor home” (included in 49 CFR Part 571.3) to refer to “propane” rather than “LP gas supply” and to add a new definition of “travel trailer” to Part 571.3 as follows:

Motor home means a multi-purpose vehicle with motive power that is designed to provide temporary residential accommodations, as evidenced by the presence of at least four of the following facilities: Cooking; refrigeration or ice box; self-contained toilet; heating and/or air conditioning; a potable water supply system including a faucet and a sink; and a separate 110-125 volt electrical power supply and/or propane.

Travel trailer means a trailer designed to be drawn by a vehicle with motive power by means of a bumper or frame hitch or a special hitch in a truck bed and is designed to provide temporary residential accommodations, as evidenced by the presence of at least four of the following facilities: Cooking; refrigeration or ice box; self-contained toilet; heating and/or air conditioning; a potable water supply system including a faucet and a sink; and a separate 110-125 volt electrical power supply and/or propane.

2. The Definition of “Travel Trailer” and “Motor Home”—A definition of “travel trailer” was proposed in the NPRM since the majority of heavy RV trailers, including 5th wheel travel trailers and all other travel trailers are considered “travel trailers.” As more fully explained elsewhere in this final rule, since this final rule applies the motor home OCCC label and the RV trailer CCC label to all RVs regardless of GVWR, the definition must apply to more types of RV trailers. NHTSA believes that it is therefore necessary to make the trailer term being defined more generic.

In this final rule, NHTSA changes the term being defined from “travel trailer” to “recreation vehicle trailer.” The load carrying capacity labeling requirements in this final rule apply to all vehicles that meet the definitions of “motor home” and “recreation vehicle trailer” (RV trailer). RV trailers include all towable RVs such as folding camping trailers, conventional travel trailers, fifth-wheel travel trailers, travel trailers with expansion ends, sport utility RV trailers, and all other trailers intended for recreational purposes that meet the definition of “recreation vehicle trailer.”

Raising similar concerns, NATM commented that the “travel trailer” definition inadvertently includes ordinary cargo trailers with built-in living quarters, trailers that NATM's members (few of whom are members of RVIA) build primarily for transporting horses, livestock, automobiles and other commercial products. These cargo trailers also include four of the six specified facilities NHTSA proposed as evidence of temporary living or residential accommodations.

These “living quarters” or facilities are often installed after the horse trailer or auto hauler leaves the trailer manufacturer's plant. Since these living quarter-equipped cargo trailers are designed primarily to haul commercial cargo, their living quarters occupy much less floor space than do RV travel trailers. The cargo trailers are not labeled to disclose cargo carrying capacity. NATM argued that mandating their labeling with a RV trailer CCC label would impose an unnecessary burden upon these manufacturers, most of which are small businesses.

NATM asked NHTSA to revise the proposed definition of “travel trailer” to include the following exception to the definition: “* * * except trailers designed primarily to transport cargo.” It argued that this more limited definition is fully consistent with the intent of the proposed new consumer-labeling requirement.

NHTSA agrees with NATM that it did not intend the definition of “travel trailer” to include the types of commercial cargo trailers that NATM described in its comment. Trailers designed to accommodate cargo such as livestock and racing cars usually have ample space and GVWR for such cargo, and the space allotted for living quarters is incidental. Therefore, in this final rule, the definition of “recreation vehicle trailer” will not include trailers “designed primarily to transport cargo.”

NHTSA further notes that trailers “designed primarily to transport cargo” does not include trailers (used for personal purposes) known as “sport utility RVs” or “toy haulers.” These trailers usually have spacious rather than incidental living quarters and provide a cargo area for smaller items for personal use such as motorcycles, mountain bikes, all terrain vehicles (ATVs), snowmobiles, canoes or other types of recreational gear. NHTSA intends these vehicles to be included in definition of “recreation vehicle trailer” and be subject to the requirements of this final rule.

RVIA commented that the definition of “travel trailer” inadvertently excludes some folding camping trailers which collapse into a low profile unit in the travel mode. Upon reaching the camping destination, the unit when deployed has a “pop-up” roof, padded sleeping surface extensions and canvas side walls. Some of the smaller and less expensive models may not have four of the six specified facilities noted in the proposed “travel trailer” definition. RVIA suggested that these smaller folding camping trailers would be covered by modifying the definition of “travel trailer” to focus on the primary purpose of the trailer, not simply the presence of certain amenities alone. Thus, the definition recommended by RVIA would only require one of the facilities proposed in the NPRM to be considered a “recreation vehicle trailer.”

NHTSA has decided not to adopt RVIA's comment. The definition for “travel trailer” proposed in the NPRM was fashioned after the definition of “motor home” at 49 CFR 571.3, and to minimize confusion, NHTSA seeks to keep the “facilities” and the number of facilities needed to provide temporary residential accommodations in both definitions consistent.

In this final rule, the folding camping trailers that are not subject to the heavy RV CCC label requirements will have GVWRs of 4,536 kilograms (10,000 pounds) or less and will be required to have tire placard load carrying capacity information required by FMVSS No. 110. NHTSA does not believe that the folding camping trailers are significantly contributing to the RV overloading problem, as when the trailer is folded, there is little room for cargo.

Finally, in this final rule, “motor homes” will include all motorized RVs such as Type A motor homes, Type B motor homes, Type C motor homes, van conversions, truck conversions, sport-utility conversions, and other motor vehicles that meet the definition of “motor home.” There were no comments to the proposed change to the “motor home” definition to refer to propane. Thus, the proposed definition of “motor home” is adopted as final.

3. NPRM's Term “Tongue Load Rating” for RV Trailers—NATM commented that the term “tongue load rating” used in the NPRM is not recognized in the trailer industry, and recommended that “measured tongue weight” be used instead. NATM also recommended that S10.2 in the proposed regulatory text of FMVSS No. 120 be changed to “On travel trailers, the sum of the GAWRs of all axles on the vehicle plus the minimum recommended tongue weight must not be less than the GVWR.” NATM said that manufacturers cannot control the loading patterns of end-users and therefore, most manufacturers recommend a range of tongue weights for their particular trailer designs.

RVIA commented that the term “tongue load rating” is undefined and suggested that the term “hitch/pin load rating” be used in place of “tongue load rating” in the final rule.

NHTSA agrees that the term “tongue load rating” may not be widely used in the trailer industry and agrees with the public comments. Therefore, in the final rule, NHTSA will make the appropriate changes to the regulatory text and will use the terms “tongue weight” and/or “hitch pin load” rather than “tongue load rating.”

“Tongue weight” means the downward force exerted on the ball of a hitch by the trailer coupler. In the case of a fifth-wheel travel trailer, it is the downward force exerted on the truck bed by the trailer. The manufacturer will specify the tongue weight or the tongue weight range according to the design of a particular trailer. Tongue weights are typically 10 to 14 percent of the trailer's weight; however, the range can vary depending on the trailer hitch configuration and the number of axles on the trailer. The axle ratings of the trailer can be based on the fact that portions of the trailer weight will be transferred to the tow vehicle. If a range is specified, the axles should be designed to accommodate the worst-case scenario which would be when tongue weight is at the minimum portion of its range and more weight is shifted to the axles. Consumers should load their trailers in a fashion that keeps the tongue weight within the range recommended by the manufacturer.

C. GVWR, GAWR and Tire Load Information for Motor Homes and Recreation Vehicle Trailers

1. NPRM—In the NPRM, we proposed to amend FMVSS No. 120 to require that the sum of the GAWRs of all the axles on a motor home and that the sum of the GAWRs of all the axles on a “travel trailer” plus the “tongue load rating” not be less than the GVWR of each respective vehicle. We noted that the proposed requirement would not prevent individual tires on motor homes and “travel trailers” from being overloaded.

In the NPRM, we also proposed to require that the size of the tires that are on motor homes and “travel trailers” at the time of first retail sale be the same size as the tires on the tire label required by FMVSS No. 120. FMVSS No. 120 requires certain information on either the Part 567 vehicle certification label or on a separate tire information label.⁶ Since inflation tire pressure is critical to tire loading, the tire label provides the recommended tire size and cold inflation pressure for the vehicle. If a different tire is placed on the vehicle, it may require a different tire inflation pressure. Consumers may refer to the tire label for inflation pressures. If the size of the tire on the label and the size of the tire on the vehicle are not the same, the consumer may inflate the vehicle's tires to the wrong pressure. In some cases, inflating vehicle tires to the wrong pressure can intensify the effects of overloading.

⁶ In FMVSS No. 120, S5.3(a) provides the option of including tire information on the certification label required by § 567.4 or § 567.5. In FMVSS No. 120, S5.3(b) provides the option of including the tire information on a tire information label affixed to the vehicle in the manner, location and form described in 49 CFR 567.4(b) through (f). Note that § 567(d) applies only to trailers.

We also proposed that manufacturers disclose the CCC of motor homes and “travel trailers.” NHTSA anticipated that consumers would use this information both to purchase vehicles with CCCs that will meet their needs and as guidance for how they may subsequently load their vehicles in a safe manner. However, we did not propose to specify a minimum required CCC for any motor home or travel trailer.

2. Requirement That Heavy RVs be Delivered to the Consumer with the Same Size Tires That Are Listed on the Vehicle Certification Label or Tire Information Label—As earlier noted, in the NPRM, NHTSA proposed to require that RVs with GVWRs of more than 4,536 kilograms (10,000 pounds) have tires at first retail sale that are the same size as the tires listed on the vehicle certification label or tire information label. RMA commented that the requirement should read: “The tires on each motor home and travel trailer at first retail sale must have the same or greater tire size and load rating as the tire size and load rating on the labeling required by S5.3 (of FMVSS No. 120). If the tire/wheel assemblies on the motor home or travel trailer at first retail sale are heavier than those listed on the required label, the additional weight must be added to the unloaded vehicle weight (UVW).”

RVDA commented that after consulting with many dealers and aftermarket suppliers of RVs, it believes a requirement that RVs with GVWRs of more than 4,536 kg have tires at first retail sale that are the same size as the tires listed on the vehicle certification label or tire information label is not a problem in the RV industry for either motorized RVs or travel trailers. RVDA's understanding is that if a customer requests customized tires or rims on an RV, the dealer can only install tires and rims that are the same size as the sizes provided on the tire information label. Otherwise, dealers will not perform the customization.

NHTSA notes that the proposed requirement was not intended to prevent dealers/service facilities from changing the tire size and providing customized tires with vehicles before first retail sale. It simply states that the size of the tires on the vehicle at first retail sale must agree with the size of the tires listed on the tire information label. The dealer may replace the tires and correct or replace the tire information label or the vehicle certification label to reflect the new tire size so long as the vehicle continues to meet all applicable requirements. Therefore, revising the requirement according to RMA's suggestion would not be necessary as it is desirable that the tire size on the vehicle and the tire size on the label agree.

With respect to RVDA's comment, NHTSA notes that the dealer/service facility may change the tires to a different size as long as the tire size information on the label is corrected to agree with the tire size on the vehicle at the time of first retail sale and the vehicle otherwise continues to meet all applicable requirements. The label assures that the consumer will always know the size of the tires that were on the vehicle at delivery which presumably is a tire size recommended by the vehicle manufacturer. If the replacement tires weigh more than the original tires, the additional weight will be included in the total weight added between final vehicle certification and first retail sale.

Dealers/service facilities usually correct tire sizes on FMVSS No. 110 tire placards by either replacing or obscuring the original tire placard with an identical tire placard with corrected tire sizes or obscuring a portion of the original tire placard with an overlay that matches the original tire placard and allows new tire sizes to be entered. If the new tire sizes are not machine printed on the replacement tire placard or partial overlay and there are blanks on these labels, the new tire sizes may be legibly entered with a black, indelible, fine-point marker. This final rule does not permit crossing out incorrect values and entering new values as a means of updating tire sizes. The final rule requires dealers to replace or obscure the FMVSS No. 120 tire information label or vehicle certification label to reflect the new tire sizes.

3. Whether the “Make Inoperative” Prohibition Applies to the FMVSS No. 110 Vehicle Placard and Optional Tire Inflation Pressure Label—NHTSA received comments from SEMA, NTEA, NADA and ADA regarding how the “make inoperative” prohibition applies to the FMVSS No. 110 tire placard after first retail sale. The comments asked if modifiers and repair facilities are required to update and/or replace tire placard/labels or whether the requirement ends after first retail sale.

Recent NHTSA interpretations issued to NMEDA, SEMA and Bruno on April 7, 2006, explain that it would not be a violation of the 49 U.S.C. § 30122 “make inoperative” prohibition, with respect to S4.3 of FMVSS No. 110, if modifiers change the vehicle's tire size, cold inflation pressure, and/or cargo capacity rating after first retail sale and do not update the tire placard.

In evaluating this question, NHTSA focused on the language of S4.3 of FMVSS No. 110. One of the items of safety information required by S4.3 is identified in paragraph (d), which reads:

Tire size designation, indicated by the headings “size” or “original tire size” or “original size,” and “spare tire” or “spare,” for the tires installed at the time of the first purchase for purposes other than resale. For full size spare tires, the statement “see above” may, at the manufacturer's option replace the tire size designation. If no spare tire is provided, the word “none” must replace the tire size designation;” [Emphasis added.]

The agency thus stated that the requirement for one of the critical items of safety information to be provided on the tire placard is specifically expressed in terms of the “tires installed at the time of first purchase for purposes other than resale.” NHTSA also noted that there is a relationship between a number of the items required to be specified on the tire placard.

NHTSA further observed that regardless of what changes a modifier may make to a vehicle, it does not change the size of the tires that were installed at the time of the first purchase for purposes other than resale (the information S4.3 of FMVSS No. 110 requires to be on the placard). Given this, and recognizing the relationship between a number of the items required to be specified on the tire placard, NHTSA expressed its opinion that it would not be a violation of the Section 30122 “make inoperative” provision, with respect to S4.3 of FMVSS No. 110, if modifiers change the vehicle's tire size, cold inflation pressure, and/or cargo capacity rating, but do not update the tire placard.⁷

⁷ In the interpretation letter, NHTSA went on to note that the potential inconsistency between the information on the placard and the actual vehicle could be “misleading and dangerous to vehicle operators.” Thus, NHTSA encouraged any party that modifies a used vehicle “so that the tire safety information is no longer accurate to either add a new label to the vehicle which indicates the correct tire safety information or add a warning label * * * indicating that the tire safety information placard is no longer accurate.”

Similarly, the requirement to correct the weight value that the weight of occupants and cargo should never exceed on the motor home OCCC label or the value that the weight of cargo should never exceed on the RV trailer CCC label ends after first retail sale. After first retail sale, it is up to the consumer to subtract any weight added after first retail sale from the vehicle's load carrying capacity.

NHTSA notes, however, that in accordance with 49 CFR 595.7, businesses that modify vehicles to accommodate people with disabilities must provide the vehicle owner with a document that indicates any reduction in the load carrying capacity of a vehicle of more than 100 kg (220 lb) after the modifications are complete.

D. Determining Occupant Capacity Weight

1. NPRM—In the NPRM, NHTSA stated that in order to determine the CCC of a motor home, the occupant capacity weight (OCW) must be determined. The OCW is then grouped with the other weight factors (such as weight of full fresh water, propane and the unloaded vehicle weight) that must be subtracted from the vehicle's GVWR in order to determine the portion of the GVWR available for carrying cargo. Therefore, in the NPRM, NHTSA proposed that the greater of the total number of safety belt-equipped seating positions or the total number of sleeping positions be multiplied by 68 kilograms (150 pounds) to determine the OCW. This OCW value would be used to determine the weight of maximum occupants for the motor home. NHTSA believed that this method would capture the worst-case OCW scenario in order to prevent the possibility of overloading.

2. RV Occupant Capacity Weight (OCW) and the Weight of a Standard Occupant—Seymour agreed with NHTSA, commenting that since families often carry a tent or tow a travel trailer for children, basing the OCW strictly on the number of sleeping positions does not necessarily reflect the number of passengers who will be traveling in the vehicle. Seymour further commented that the allocation of 68 kg (150 pounds) per person in the standard is an underestimate and will lead to overloading.

Walker also agreed with the NHTSA proposal, commenting that the use of only sleeping positions to determine the number of occupants the RV is intended to carry undermines the entire cargo carrying capacity calculation. The number of occupants a motor home is intended to carry must also be based on the number of seats provided. Basing the OCW calculation strictly on sleeping positions allows manufacturers to boost the available cargo carrying capacity and increases the likelihood that the RV will be operated in an overloaded condition when seating positions are fully occupied. Walker recommended the practice be prohibited.

RMA commented that labeling and/or instructions should indicate that cargo weight could be substituted for occupant weight if fewer than maximum occupants are transported. Consumers would thus get maximum use out of their available load carrying capacity. RMA also commented that the weight allocation of 68 kg (150 pounds) per occupant is low.

RVIA commented that in virtually every case, the total safety belt-equipped seating positions in a motor home will be greater than the number of sleeping positions. NHTSA's method of determining OCW assumes that all safety belt-equipped seating positions will always be occupied when determining the vehicle's cargo carrying capacity. RVIA stated that while it is certainly possible, it is unrealistic and counter-productive to presume that this is always the case. That organization argued that, consequently, the consumer will be misled by an inaccurately low cargo carrying capacity value whenever there are fewer passengers in the vehicle than there are safety belt-equipped seating positions. In its comments, RVIA suggested alternative labels to avoid this confusion and permit consumers to arrive at a more accurate load carrying capacity value for their particular loading situation.

In response to the comments, NHTSA notes that its proposed definition for OCW intended to capture the maximum OCW for a motor home, ensuring that a vehicle with maximum occupants would not be overloaded. NHTSA envisioned that consumers would use the information on the label to determine the amount of additional cargo carrying capacity that exists when fewer than maximum occupants are transported. In this rulemaking, NHTSA used an occupant weight of 68 kg (150 pounds), as it is a value currently used throughout the FMVSS. The selection of a new, different value would require research.

As discussed in the section on label content and format, in this final rule, NHTSA adopts labels that display the total, maximum weight allotted for occupants and cargo. Adoption of the abbreviated format (that displays the total, maximum weight for occupants plus cargo) supersedes the need to define individually OCW or the standard weight of an occupant. The abbreviated format, as suggested by RVIA, permits consumers to get maximum use of their available load carrying capacity as the weights of occupants and cargo (including on-board water) are based on actual quantities. In addition, it permits manufacturers to state their actual load carrying capacity for occupants and cargo instead of understating the cargo carrying capacity value.

E. Location of Labels

1. NPRM—To promote a consistent label location, which may increase the number of times consumers see the label and thus increase label effectiveness, in the NPRM, we proposed that the label be affixed to the interior of the forward-most exterior passenger door on the right side of the vehicle and be visible. Such a door is used repeatedly when entering, exiting, and loading the vehicle. In addition, such a door will have the surface area to accommodate the size of the required label.

2. Revised RV Load Carrying Capacity Labels—In its comments, the RVIA suggested a revised labeling format that would require each RV to have information in three locations: (1) An abbreviated label in locations similar to those specified for tire information under FMVSS Nos. 110 and 120; (2) a more detailed label that would be placed on the inside of a prominent cabinet door in the living quarters of the vehicle; and (3) information in the vehicle owner's manual.

NHTSA agrees, in part, with the revised format suggested by RVIA. NHTSA believes that the most important time for RV purchasers occurs at the point-of-sale. Those who are not exposed to the correct load carrying capacity information and those who see the load carrying capacity information but do not understand it could follow through with their purchase uninformed of the vehicle's load carrying capacity. It is not until after the vehicle is purchased and in use that overloading issues are realized. Then, consumers may experience unexplained control problems, premature tire wear, tire blowouts, rim failures, suspension component failures, and other issues. For these reasons, NHTSA remains in favor of a single label requirement providing concise information in a prominent location on the vehicle. Based on comments to the NPRM, in this final rule, NHTSA will supplement the RVIA's suggested abbreviated label with additional information, and will make them the only labels required.

3. Label Locations for Heavy RVs and All Light Vehicles—In the NPRM, NHTSA proposed that the CCC labels be affixed to the interior of the forward-most exterior passenger door on the right side of the vehicle. NHTSA stated its belief that such a door will be heavily used while loading cargo giving the label maximum exposure. Also, since such a location is not crowded with other labels, the CCC labels would be more recognizable and would have a higher probability of being noticed by the consumer during the sale of the vehicle.

Walker commented that the CCC label should be placed in a location similar to the “sticker” label placed uniformly on a conspicuous window on new cars. Then a permanent label could be placed in a prominent location elsewhere on the vehicle. He also commented that RV sale documents should have a required acknowledgement referencing the aspects of weight, overloading and add-ons. NHTSA notes that the location recommended by Walker is already the location for information required by the Automobile Information Disclosure Act (AIDA) (15 U.S.C. 1231-1233). Adding the CCC label to the AIDA location could confuse potential customers with additional information that is not related to AIDA requirements. Matters involving RV sales documents are subject to State law, and are outside the scope of this rulemaking.

RVDA asked NHTSA to provide RV manufacturers with reasonable flexibility in label placement. RVDA stated that RV floor plans for motorized RVs and travel trailers vary widely. Some motorized RVs do not have driver-side or passenger-side front doors that enter into the living quarters of the vehicle. In some RVs, occupants enter from the back and in others, occupants enter from the front door to the cab area. RVDA further stated that some RVs have extensive trim packages covering the door while others have glass doors and screen doors where the labels would be placed. RVDA said that in most situations the label would likely be located in the middle of the living room/kitchen which may result in the consumer removing it or covering it up.

RVIA had comments similar to those from RVDA. RVIA commented that NHTSA's proposed requirement would mean that most RVs would have a large, technical, aesthetically displeasing, stick-on label in the midst of the owner's living quarters. RVIA also commented that the proposed label location fails to take Type C and Type B motor homes into consideration. For instance, Type C motor homes are typically built on a modified truck chassis and Type B motor homes are typically built on a full sized van chassis. For such vehicles, the forward-most exterior passenger door on the right side of the vehicle is the typical vehicle style door providing access to the front passenger seat. RVIA stated that given the presence of arm rests, map compartments, beverage holders, speakers, windows and window controls, it may be difficult to find a place that will accommodate the label on the tens of thousands of Type C and B motor homes built each year.

NHTSA believes that in order to be as effective as possible, the label must be seen by the consumer during the sale of the vehicle, and that the label would be more visible in the location specified in the NPRM than it would be on the “B” pillar, on the inside of a cabinet door or in the vehicle owner's manual. If, due to aesthetics, the specified location ⁸ results in the label looking intrusive, the label will stand out to consumers. Since the information on the label specified in this final rule is more concise than that specified in the NPRM, the label is potentially physically smaller and should not present as much of an aesthetic problem as the label proposed in the NPRM.

⁸ For the purposes of this document, “specified location” means the interior of the forward-most exterior passenger door on the right side of the vehicle.

If there are two doors installed in the same location, the temporary or permanent load carrying capacity label must be affixed to the inside of the innermost door. For example, many RVs have an inner screen door and outer solid door hinged in the same location. The doors can be used individually or can be latched together and used as a single door. The label must be affixed to the inside solid portion of the inner screen door so it will be visible at all times. If it were placed on the inside of the solid door, the label could be hidden when the doors are latched together or would be viewed through screening. On Type B and Type C motor homes, the temporary or permanent load carrying capacity label will be placed on the inside of the passenger door to the cab of the vehicle.

Therefore, this final rule specifies the same location as that proposed in the NPRM (interior of the forward-most exterior passenger door on the right side of the vehicle). It should be noted, however, if there are two doors installed in the same location, the temporary or permanent load carrying capacity label must be affixed to the inside of the inner-most door. For example, many RVs have an inner screen door and outer solid door hinged in the same location. The doors can be used individually or can be latched together and used as a single door. The label must be affixed to the inside solid portion of the inner screen door so it will be visible at all times. If it were placed on the inside of the solid door, the label could be hidden when the doors are latched together or would be viewed through screening. On Type B and Type C motor homes, the temporary or permanent load carrying capacity label will be placed on the inside of the passenger door to the cab of the vehicle. Also, if no doors exist on the right side of the vehicle, the permanent or temporary load carrying capacity label will be placed on the inside of the inner door on the rear of the vehicle.

However, in order to provide flexibility in situations where this location may create a label that is overly obtrusive for vehicle users, in this final rule, NHTSA permits manufacturers the option of placing a temporary label in the specified location and applying an identical permanent label in the area of the vehicle specified by FMVSS Nos. 110 and 120 for tire information. This approach places the information in a prominent location during the sale of the RV yet allows the label to be removed by the consumer after purchase if aesthetically displeasing. In such cases, an identical label will remain permanently affixed in the same area specified for tire information.

NMMA recommended a “Plain English” Guide that explains this final rule's labeling requirements to manufacturers and dealers. Appendix A of this final rule (following the final rule regulatory text) summarizes the label requirements for various vehicle/GVWR combinations.

4. Location of the FMVSS No. 110 Load Carrying Capacity Modification Label—The Alliance noted that the NPRM provisions would require the load carrying capacity modification label to be placed within 25 mm of the tire placard when the load carrying capacity modification label is used to correct load carrying capacity information. It requested that in cases where there is no room for the load carrying capacity modification label within 25 mm of the tire placard, that the rule allow the load carrying capacity modification label to be placed in any location allotted for the tire placard. In such cases, a small label near the tire placard could refer the consumer to the other location.

In this final rule NHTSA has clarified that the tire placard, as well as other sources of load carrying capacity information may be corrected by replacing/modifying existing labels or adding the load carrying capacity modification label within 25 mm of the tire placard or original labeling. There are many location alternatives offered by FMVSS No. 110 at S4.3 for tire placard placement.⁹ It is suggested that a location be selected where there is room for placement of the load carrying capacity modification label within 25 mm if necessary.

⁹ S4.3 Placard of FMVSS No. 110 states in part: “Each vehicle * * * shall show the information specified * * * on a placard permanently affixed to the driver's side B-pillar. In each vehicle without a driver's side B-pillar and with two doors on the driver's side of the vehicle opening in opposite directions, the placard shall be affixed on the forward edge of the rear side door. If the above locations do not permit the affixing of a placard that is legible, visible and prominent, the placard shall be permanently affixed to the rear edge of the driver's side door. If this location does not permit the affixing of a placard that is legible, visible and prominent, the placard shall be affixed to the inward facing surface of the vehicle next to the driver's seating position. * * *”

For example, the manufacturer of a light RV that applies a temporary OCCC or RV trailer CCC label in the specified location (visible on the interior of the forward-most exterior passenger door on the right side of the vehicle) knows that there must be room within 25 mm of the tire placard for two labels. One is a permanent RV trailer or motor home supplemental label which will be installed by the manufacturer itself. The other is a permanent load carrying capacity modification label that may have to be installed by the dealer or service facility if the added weight threshold is exceeded. Therefore, the vehicle placard should be placed in an area of the “B” pillar where there is room for these labels. If the manufacturer of the light RV is placing a permanent OCCC or RV trailer CCC label in the specified location, then it is only required to assure that there is room for a possible load carrying capacity modification label within 25 mm of the tire placard in case it must be applied by the dealer or service facility if the added weight threshold is exceeded. If there is no room for the dealer to apply a modification label near the placard, then the placard must be modified or replaced. NHTSA declines to permit non-substantive labels that only direct consumers to the location of other labels.

F. Label Format and Content

1. NPRM—In the NPRM, we stated that we seek to provide purchasers of motor homes and travel trailers with information about the vehicles' CCC. NHTSA stated its belief that the labels should also provide consumers with a detailed explanation of how the CCC is calculated, thus enabling each consumer to adjust the values according to their particular applications. For example, if there are only two occupants riding in a motor home designed for six occupants, there would be more capacity for cargo. NHTSA proposed a label similar to the RVIA label that is currently voluntarily used by many companies. Although RVIA requires its labels on all member-manufactured RVs, in the NPRM, NHTSA proposed labels only for heavy RVs as it believed, at the time, that these heavier vehicles were more susceptible to overloading.

NHTSA also stated its belief that the proposed label formats have information consumers can use while comparison shopping for motor homes or travel trailers. The labels would also serve as a reference to recreational vehicle owners when the owners are loading cargo.

NHTSA proposed that the label for travel trailers would include the trailer tongue load rating and the statement: “The weight of cargo should never exceed XXX kilograms (XXX pounds)” in black lettering on yellow background. The travel trailer manufacturer would be responsible for determining the trailer tongue load rating and the cargo carrying capacity of its travel trailer, and for providing this information on its travel trailer label.

NHTSA proposed that the label for motor homes would include the statement: “The combined weight of occupants and cargo should never exceed XXX kilograms (XXX pounds)” in black lettering on yellow background. This statement is the same as that required for vehicles with GVWRs of 4,536 kilograms (10,000 pounds) or less under the required FMVSS No. 110 vehicle placard, which became effective on September 1, 2005. The motor home manufacturer would be responsible for determining the cargo carrying capacity of its motor home, and for providing this information on its motor home label.

All information on each of the proposed motor home and travel trailer labels would be required to be a minimum print size of 2.4 millimeters (3/32 inches) high and be printed on a contrasting background. The weights on the label would be required to be displayed to the nearest kilogram (with conversion to the nearest pound in parentheses) and must reflect the particular weight specifications of the motor home or travel trailer to which it is affixed as the vehicle leaves the factory.

It was proposed that both labels advise the purchaser that the weight of any dealer-installed equipment must be subtracted from the manufacturer's value of CCC and advise consumers to load cargo appropriately to prevent non-uniform side-to-side and forward-aft loading. In the case of motor homes, it was proposed that the label contain the weight of the maximum hitch load and the advice that the “tongue weight” of trailers or vehicles being towed also subtracts from the manufacturer's value of CCC. If the motor home was not delivered with a hitch, this block would be left blank.

NHTSA did not propose that the label refer to the owner's manual, but did not propose to prohibit manufacturers from adding references on the label that refer to specific information included in the owner's manual.

2. Revised RV Load Carrying Capacity Labels—In its comments to the NPRM, RVIA suggested a revised labeling format that would require varied information in three locations. RVIA's suggested format would require each RV to have an abbreviated label, a more detailed label and information in the vehicle owner's manual. Under the RVIA revised format, an abbreviated label would appear on each motorized and towable RV in locations similar to those specified for tire information under FMVSS Nos. 110 and 120. This abbreviated label was intended to provide essential information in a visible location. The abbreviated label for motorized RVs would contain the VIN, the maximum weight value allotted for occupants and cargo and a referral to the vehicle owner's manual for additional information. The abbreviated label for towable RVs would be similar to the motor home label except that it would display the maximum weight value allotted for cargo only, as occupants do not normally ride in a towed RV.

In addition, RVIA's recommended revised format would require more detailed labels that would be placed on the inside of a prominent cabinet door in the living quarters of the vehicle. The more detailed labels for motor homes and towable RVs would repeat the information that appears on the abbreviated labels; however, it would also provide the definitions of GVWR, UVW and CCC and the designated sleeping capacity (for motor homes). In addition, the more detailed labels would provide advisory statements on the effects of dealer installed equipment on CCC and the distribution of cargo.

Also, under the revised format suggested by RVIA, each RV would be required to have information in the vehicle owner's manual. RVIA recommended that vehicle owner's manuals contain the information provided on both the abbreviated and more detailed labels, as well as, information about the loading of cargo, how to weigh a vehicle, towing guidelines and additional definitions.

The revised RVIA format also suggested that the weight of full propane be included in the vehicle's UVW weight and the weight of on-board water be treated as cargo.

NHTSA agrees, in part, with the revised format suggested by RVIA in its comments. However, as stated earlier, NHTSA favors a single label requirement with concise information in a prominent location on the vehicle. The final rule specifies the minimum information necessary to help consumers make informed RV purchasing decisions.

Thus, the motor home label will include the VIN and the weight value that the combined weight of occupants and cargo should never exceed. To this, in this final rule, NHTSA adds requirements for the safety belt equipped seating capacity (number of safety belt equipped seating positions), the weight of a full load of water, the unit weight of water and an advisory that the weight of water and towed vehicle tongue weight is part of cargo ¹⁰.

¹⁰ Throughout this document, this label will be known as the motor home occupant and cargo carrying capacity label or the motor home OCCC label.

The label for RV trailers will include the VIN and the weight value that the weight of cargo should never exceed. To this, in this final rule, NHTSA adds the weight of a full load of water, the unit weight of water and a caution that the weight of water is part of cargo.¹¹

¹¹ Throughout this document, this label will be known as the RV trailer cargo carrying capacity label or the RV trailer CCC label.

Information about on-board water weight is important because filled water tanks can be a significant portion of the vehicle's total cargo capacity. The safety belt equipped seating capacity is provided because the combined weights of motor home occupants is part of the load carrying capacity equation.

These labels will follow RVIA's suggestions that the weight of a full load of propane be included in the vehicle's UVW and the weight of on-board water be treated as cargo. It is not easy to determine the weight of partially filled propane tanks and propane is usually not off-loaded to make room for additional cargo. Therefore, it is less confusing to include the weight of full propane in the UVW. The level of on-board water can be assessed by the consumer. Campgrounds often provide water hook-ups, making it unnecessary to carry water. In such cases, the absence of water provides more capacity for cargo.

The load carrying capacity information provided on these abbreviated labels for RVs is also consistent with the FMVSS No. 110 load carrying capacity information required on the tire placards of light vehicles. NHTSA believes that the motor home OCCC label and the RV trailer CCC label specified in this final rule promotes commonality of load carrying capacity information between light vehicles and heavy RVs and provides concise, essential, non-confusing information to consumers.

The information provided by these labels is the information consumers need for a quick assessment of a RV's load carrying capacity. Providing load carrying capacity information in this simple form requires that consumers only think about the total weight of occupants, cargo and on-board water for motor homes and the total weight of cargo and on-board water for RV trailers. The definitions and other information on the labels originally proposed in the NPRM are not needed for a quick assessment of load carrying capacity. Manufacturers can provide additional information voluntarily in the vehicle owner's manual. This simple format allows consumers to easily arrive at a more accurate load carrying capacity value for a particular trip as the weight of occupants and on-board water are based on actual quantities and are not automatically based on maximum capacities.

NHTSA believes that by specifying one concise, visible label it is unnecessary to require the additional more detailed label on the inside of a cabinet door in the living quarters of the vehicle or the additional information in the vehicle owner's manual as suggested by RVIA. The advisory regarding dealer installed equipment that appeared on the CCC labels proposed in the NPRM is addressed by the load carrying capacity modification label required by this final rule. Definitions are not necessary for consumers to understand the simple statement of occupant and cargo limitations on the label. Also, the need to specify the number of designated sleeping positions has been made moot.

The vehicle owner's manual information suggested by RVIA would also repeat information from the abbreviated and more detailed labels, including definitions not needed for the load carrying capacity determination and other general requirements. Such additional information can be provided to consumers in ways determined by manufacturers and organizations such as the RVIA.

For these reasons, the labels specified in this final rule are as follows:

G. Addition of Weight to FMVSS No. 110 Vehicles and to FMVSS No. 120 Motor Homes and Travel Trailers Between Vehicle Certification and First Retail Sale of the Vehicle

1. Proposal Concerning FMVSS No. 110—September 1, 2005 was the effective date of an amendment to FMVSS No. 110, Tire selection and rims, which requires manufacturers to affix a tire placard to the vehicle's driver-side B-pillar or to the edge of the driver's door (if no B-pillar exists) which adds the statement: “The combined weight of occupants and cargo should never exceed XXX kg or XXX lbs.” to the information previously required on the existing tire placard. Vehicle manufacturers are required to disclose the amount of weight carrying capacity that is available on the vehicle for passengers and cargo. The vehicle manufacturer installs this label when the vehicle is certified.

Manufacturers and dealers have inquired as to what must be done when optional equipment and accessories are added to a vehicle before first retail sale, which increases the vehicle's weight and decreases the weight allotted for passengers and cargo. NHTSA's response to such inquiries has been that the label must be replaced as necessary so that the vehicle has a label with accurate information. NHTSA believes, however, that small increases in weight are insignificant. Moreover, requiring dealers to reprint labels with new information each time a small amount of weight is added to a vehicle is unnecessarily burdensome.

To address these issues, in the NPRM, NHTSA proposed that for FMVSS No. 110 vehicles, if weight equal to or less than 0.5 percent of gross vehicle weight rating (GVWR) is added by the dealer before first retail sale, no additional action is required. If weight greater than 0.5 percent of GVWR is added by the dealer before first retail sale, the dealer would be required to add a label to the vehicle within 25 millimeters (1 inch) of the FMVSS No. 110 tire placard, which discloses the total weight of added items to the nearest kilogram (pound). NHTSA proposed that the label be visible when the FMVSS No. 110 tire placard is read. The label as proposed included blank spaces that represent the value for total added weight. The total added weight would be provided by the dealer when it installs optional accessories and equipment in excess of 0.5 percent of the vehicle's GVWR. To fill out the blank spaces, the dealer need only know the total weight effect of added items. NHTSA stated its belief that dealers can provide the information without weighing vehicles.

2. Proposal Concerning FMVSS No. 120—In the NPRM, NHTSA stated its belief that the proposed changes to FMVSS No. 110 concerning additional dealer-added weight are also appropriate for FMVSS No. 120. In the NPRM, NHTSA proposed that the same method proposed for FMVSS No. 110 vehicles above also be used for motor homes and travel trailers in FMVSS No. 120. If weight equal to or less than 0.5 percent of GVWR is added by the dealer to an FMVSS No. 120 motor home or travel trailer between certification and first retail sale, no additional action is required. If weight greater than 0.5 percent of GVWR is added by the dealer to a FMVSS No. 120 motor home or travel trailer between certification and first retail sale, the dealer would be required to add the following label within 25 millimeters (1 inch) of the FMVSS No. 120 motor home or travel trailer cargo carrying capacity label which discloses the total weight of added items to the nearest kilogram (pound). It was proposed that the label be visible when the FMVSS No. 120 motor home or travel trailer cargo carrying capacity label is read.

The label as proposed included blank spaces that represent the value for total added weight. The total added weight would be provided by the dealer when it installs optional accessories and equipment in excess of 0.5 percent of the vehicle's GVWR. To fill out the blank spaces, dealers need only know the total weight effect of added items. NHTSA stated its belief that dealers can provide the information without weighing vehicles.

3. Comments and Decision Concerning Weight Added to Heavy RVs and All Light Vehicles After Final Vehicle Certification and Before First Retail Sale—NHTSA received comments from numerous sources arguing that the proposed 0.5 percent GVWR threshold for relabeling requirements to be triggered was too low. Most commenters suggested that the threshold be the lesser of 3 percent GVWR or 100 kg (220 lb). This suggested threshold was based on the 49 CFR 595.7 threshold afforded to those who modify vehicles to accommodate persons with disabilities. NMEDA suggested that the threshold be 20 percent of the vehicle's load carrying capacity. RMA commented that weight equivalent to 0.5 percent of the vehicle's GVWR should be added to the vehicle's UVW which would automatically accommodate add-ons. NATM indicated that trailer manufacturers understate the load carrying capacity of trailers so dealers would not have to worry about optional equipment installed.

Toyota commented that the proposal for adding the load carrying capacity modification label to correct load carrying capacity information when weight is added is burdensome to passenger vehicle manufacturers, distributors and dealers due to the large number of potential labels. The number of combinations of vehicle model weights, optional equipment and accessories greater than the threshold is large. The number of labels required to accommodate all of the various combinations of weights will be in the thousands.

Many of the commenters asked NHTSA to clarify the following issues: To whom the threshold applies; whether CCC information must be corrected when vehicle weight is reduced and load carrying capacity is increased; whether the shipping weight of added items can be used to update load carrying capacity values; and whether the label can still be updated or replaced in lieu of applying the load carrying capacity modification label.

As previously mentioned, the purpose of the load carrying capacity modification label and its applicability threshold is to relieve dealers/service facilities from having to correct load carrying capacity information when insignificant amounts of weight are added to light vehicles and heavy RVs between final vehicle certification and first retail sale. It is also necessary to keep the load carrying capacity information reasonably accurate when significant amounts of weight are added to light vehicles and heavy RVs between final vehicle certification and first retail sale. It is anticipated that dealers/service facilities that handle vehicles such as RVs may have to correct the load carrying capacity information when equipment such as awnings, generators, spare water tanks, and spare fuel tanks are added between final vehicle certification and first retail sale. It is anticipated that dealers/service facilities that handle vehicles such as passenger cars will not have to correct load carrying capacity information very often.

In response to the many comments arguing that the threshold value is too low, NHTSA has reconsidered the threshold for labels concerning reductions in load carrying capacity. For the following reasons, we are raising the threshold to the lesser of 1.5 percent GVWR or 45.4 kg (100 pounds) to distinguish between common transactions for trailer hitches and less common transactions causing larger changes in load carrying capacity.

The most commonly installed heavy item by dealers before first retail sale is a heavy duty Class IV trailer hitch for a pickup truck. Such hitches have an advertised shipping weight of less than 36.3 kg (80 lbs). A relatively small pickup truck for this hitch application would have a GVWR of 2721.6 kg (6000 lbs) or greater. This installation would involve equipment representing 1.33 percent of the vehicle's GVWR or less. However, 5th wheel hitches which are much heavier would still exceed the threshold.

We believe the threshold for added equipment weight of the lesser of 1.5 percent of GWVR or 100 pounds relieves passenger vehicle dealers of the responsibility for label changes in the vast majority of equipment sales without creating a practical safety problem. A vehicle with the maximum weight of added equipment of 1.5 percent of GVWR when also loaded to the maximum weight of passengers and cargo specified in the original label could exceed the tire load rating by 1.5 percent as a worst case. However, NHTSA tire research (for example, Docket NHTSA 2000-8011 item 22) shows that fully inflated tires are not very sensitive to small overloads. Even in a high speed test rigorous enough to fail a third of the tire samples, tires that were slightly overloaded (taking into consideration the curvature of the test wheel) performed comparably to a sample of the same tire make/models with 10 percent less load.

NHTSA does not favor basing the threshold on a percentage of load carrying capacity because that does not yield a predictable limit on the slight overload that becomes possible, as in the case of a threshold tied to GVWR. Although NHTSA would prefer that the load carrying capacity information be as accurate as possible, there is no requirement that prevents manufacturers from understating the load carrying capacity value.

Therefore, if the total combined weight added between final vehicle certification and first retail sale exceeds the lesser of 1.5 percent of the vehicle's GVWR or 100 pounds, the load carrying capacity information must be corrected. This threshold applies to those who add weight to a light vehicle or heavy RV after the final vehicle certification and before first retail sale.

The load carrying capacity modification label which shows the amount by which the load carrying capacity is reduced is also available to alterers of light vehicles. However, if after the alteration, the vehicle qualifies as a motor home or RV trailer, the alterer is required to apply the motor home OCCC label or RV trailer CCC label as specified in this final rule.

Manufacturers that build heavy RVs are required to install a motor home OCCC label or RV trailer CCC label which will provide accurate load carrying capacity information for each vehicle as it is shipped to the dealer. The load carrying capacity modification label/compliance threshold is then available to dealers/service facilities that add additional weight between final vehicle certification and first retail sale.

When a dealer/service facility adds weight that exceeds the lesser of 1.5 percent GVWR or 100 pounds, the load carrying capacity information on the motor home OCCC label or the RV trailer CCC label and the tire placard (if a light vehicle) must be corrected. The dealer/service facility may accomplish this by label replacement, label modification, or the addition of the load carrying capacity modification label near the original label/tire placard.

Replacement labels must be identical to the labels being replaced except for the corrected values. Label modification must be accomplished by a pre-printed overlay which, when applied, obscures the original values while maintaining the original appearance of the label or tire placard. The overlay may have blanks where the original values were, and corrected values may be legibly written in the blanks of the overlay with a black, fine-point, indelible marker. Original labels cannot be modified simply by crossing out incorrect values on the original label/placard and writing in new values on the original placard.

If the load carrying capacity modification label option is used, the modification label must be placed within 25 mm of the original label it is modifying. Added load carrying capacity modification labels may be pre-printed with the load carrying capacity values blank, and the correct load carrying capacity values may be legibly printed on the label with a black, fine point, indelible marker at the time it is applied.

Because the “handwritten” method has proved to be successful in the past, we believe that permitting the “handwritten” method for the load carrying capacity modification label will provide consumers with necessary information. Machine printed load carrying capacity modification labels with corrected machine printed values could potentially better ensure legibility than labels with handwritten corrected values. However, we believe requiring only machine printed (including corrected values) load carrying capacity modification labels would result in unnecessary cost burdens. Manufacturers such as Ford have successfully used the “handwritten” method to allow dealers to correct vehicle tire information when customers request different tires before first retail sale.

Manufacturers are not prohibited from using load carrying capacity modification labels with machine printed corrected values if they choose. Corrected motor home OCCC labels, RV trailer CCC labels, tire placards and load carrying capacity modification labels must reflect the total weight added after final vehicle certification and before first retail sale. Correcting load carrying capacity information is not required in cases where vehicle weight is reduced and load carrying capacity is increased.

Dealers/service facilities may use any accurate method for determining the weight of added items and subsequently, the total amount the load carrying capacity will be reduced. We note that most consumer electronic bathroom scales have ranges from 0 to 350 pounds and provide repeatable readings within plus or minus one percent of the actual weight. Such scales would be suitable for weighing most added items. The load carrying capacity modification label specified in this final rule is provided below:

NATM commented that the load carrying capacity modification label installed by dealers when additional weight is added should identify the dealer/service facility installing the label for traceability.

NHTSA is not adopting a requirement for dealer/service facility identification on the load carrying capacity modification label described in this final rule. The lack of such a requirement however does not prevent dealers/service facilities from supplying identifying information on load carrying capacity modification labels or voluntarily applying a dealer identification label near the load carrying capacity modification label. Requiring dealers to provide identifying information on load carrying capacity modification labels would negate the label's generic qualities.

To summarize, in this final rule, when the load carrying capacity is modified between final vehicle certification and the first retail sale, NHTSA permits the use of generic labels where corrected values can be legibly entered using a black, fine point, indelible marker. This permits dealers to stock one generic load carrying capacity modification label. Also, in this final rule, the addition of the load carrying capacity modification label is one of three options that can be used to correct load carrying capacity information. Dealers/service facilities are permitted to: (1) Replace existing tire placards, motor home OCCC labels or RV trailer CCC labels with new placards/labels containing correct load carrying capacity information; (2) modify existing tire placards, motor home OCCC labels or RV trailer CCC labels so they display correct load carrying capacity information; or (3) add a load carrying capacity modification label within 25 mm of the existing tire placard and/or the motor home OCCC label or RV trailer CCC label.

In addition, this final rule adopts a threshold for correcting load carrying capacity information of the lesser of 1.5 percent of GVWR or 100 pounds, greatly decreasing the need to correct the information.

H. Other Issues

1. Whether the Final Rule Should Protect Against Overloading Tires, Wheels, Axles and Suspensions on RVs—NHTSA received numerous comments to the NPRM which suggested other possible actions that may be taken in addition to or in lieu of the proposed labeling approach. Weston, a private citizen who during his first long trip with a 2005, 36-foot, 5th wheel travel trailer experienced two rim failures resulting in tire deflation, suggested that NHTSA address common practices for suspension component sizing to include a safety factor built into the design of axles, suspension components, wheels and tires to accommodate horizontal and vertical dynamic loads that are higher than the static loads normally measured.

Weston also argued that to allow for adequate load carrying capacity, manufacturers should be required to add a minimum safety factor of 20 to 25 percent when sizing axles on RV trailers. Weston stated further that motorized and towable RVs should be equipped with tire pressure monitoring systems (TPMS), that manufacturers of RVs should be required to provide “adequacy of design,” and that NHTSA should consider the situation where dealers add weight to RVs that does not exceed the vehicle's GVWR but still exceeds the vehicle's gross axle weight rating (GAWR). In addition, Weston commented that a government oversight office should be formed to police the RV industry and that upon discovery of a problem RV manufacturers should be required to notify customers within 48 hours.

Walker commented that drivers of RVs over a specified weight should be required to have specific training and license endorsements to demonstrate a minimum level of knowledge. He also argued that both the State DOT and Federal DOT should employ spot checks for RVs to assure that they are not over weight or over length.

RMA commented that the NPRM does not prevent individual tires on RVs from being overloaded. RMA further commented that a requirement of 10 to 25 percent tire reserve load above GVWR would assure sufficient capacity in the event of spot overloading and/or poor inflation pressure maintenance. RMA also suggested that consideration should be given to the labeling of major storage/cargo compartments with their maximum load carrying capacity to assure proper load distribution.

NHTSA recognizes that there are numerous aspects to the problem of potential RV overloading. Current requirements, as well as the requirements in this final rule do not specifically regulate suspension components. We believe, however, that the labeling requirements that appear in this final rule will improve consumer awareness, purchase decisions and RV loading practices. It is anticipated that the motor home OCCC label or RV trailer CCC label that will be provided on each RV will encourage consumers to purchase RVs with a load carrying capacity adequate for their needs.

NHTSA's Office of Defects Investigations (ODI) continually compiles data and responds to complaints from consumers regarding various RV issues. Many of these complaints and issues are related to the failure of RV suspension components, individual axles, rims and tires. Many complaints are investigated for defects in materials and design, and all complaints become part of a permanent database that is used to trigger further investigations and recalls. NHTSA's Office of Vehicle Safety Compliance (OVSC) enforces current NHTSA regulations and will enforce the requirements in this final rule when it becomes effective. We note that actual RV crash data specific to crashes where an overloaded RV is a contributing factor are rare. Statistical databases and investigation techniques usually do not capture overloading related attributes. NHTSA continuously monitors all of its databases for issues relative to vehicle safety and takes appropriate action when necessary.

As indicated above, Weston commented that TPMS should be required on all RVs. NHTSA's TPMS requirements are specified at FMVSS No. 138, Tire pressure monitoring systems and are currently being phased in. Full compliance must occur on and after September 1, 2007. Final stage manufacturers and alterers must comply on and after September 1, 2008. TPMS will be required on passenger cars, multipurpose passenger vehicles, trucks and buses with GVWRs of 4,536 kg (10,000 pounds) or less except those vehicles with dual wheels on an axle. Therefore, most light, motorized RVs will be required to have TPMS. NHTSA does not currently plan further actions to extend TPMS requirements to other vehicle types or weight classes, and notes that such action is outside the scope of this rulemaking.

ADA commented that NHTSA fails to address the situation where weight is added to a vehicle by a dealer so as to affect the GAWR but not necessarily affect the GVWR. It said that the situation can arise in the mobility industry when the dealer installs an outside scooter lift on the rear of the vehicle. While the weight of the scooter and lift do not cause the vehicle to exceed its GVWR, it may cause the GAWR of the rear axle to be exceeded.

As noted earlier, NHTSA recognizes that there are numerous aspects to the overloading problem. Current requirements, as well as the requirements in this final rule do not specifically regulate suspension components or the load on individual axles, rims or tires. This final rule is intended to inform consumers of the load carrying capacity of the RVs that they are purchasing so that after these RVs are in use, consumers can avoid overloading the RVs. We believe that these labeling requirements will improve consumer awareness, purchase decisions and loading practices. Issues concerning overloading of individual axles, rims and tires in order to modify vehicles for persons with disabilities is outside the scope of this rulemaking.

Comments concerning licensing of RV drivers and spot-checks for RVs that are over weight/length, address matters that are outside the scope of this rulemaking.

2. RV Weight and Weighing Issues

Weston commented that individual RVs should actually be weighed to verify the UVW used to design the suspension and that compliance checks by other than the RVIA must occur to guarantee compliance by the industry. Walker commented that the use of generic floor plans to approximate RV weights should be prohibited as there are too many variables that may be overlooked or manipulated. He stated that relying on this method compromises the entire cargo carrying capacity calculation and may not provide the consumer with fair and equal information.

Walker also commented that if a hitch is installed on a motor home, the weight of the hitch, as well as the weight value of the hitch rating should be included in the UVW. He said that otherwise, this important information may be misunderstood or disregarded by consumers.

Walker further commented that RV manufacturers leave a variety of heavy items off of the vehicle until the vehicle has been weighed. He said that the add-ons are installed by a dealer or service facility. Items such as roof air conditioners, awnings, generators, surplus fuel tanks, surplus water tanks, microwave ovens, washer/dryers and dishwashers are installed and not included in the UVW or cargo carrying capacity calculations. Regarding the NPRM proposal that weight added by the dealer or service facility that exceeds 0.5 percent of GVWR be documented on an additional label, Walker commented that this information will not be accurate if prior weight information is not accurate. Walker commented that when weight is added at a dealer or service facility, it should be a requirement that the vehicle be weighed to verify if the chassis has the capacity to handle the additional weight.

The RVDA commented that it would like to see NHTSA develop a consistent set of rules on weighing procedures for RVs.

In the NPRM, NHTSA proposed that the weight values provided by manufacturers be displayed to the nearest kilogram with conversion to the nearest pound, must be measured on scales with a minimum accuracy of plus or minus one percent of the actual value and reflect the weights of the RV as configured for delivery to the dealer/service facility. NHTSA notes that in the July 29, 2005 Joint Petition for Rulemaking and Interim Relief from FMVSS No. 110, it was stated that it was not “financially possible” for all affected manufacturers, alterers and modifiers to have scales capable of weighing motor vehicles. However, no information on the extent of the financial burden was provided, especially if methods other than weighing the entire vehicle were used.

The scale requirements proposed in the NPRM were for the purpose of ensuring that the many weight values on the NPRM proposed label were accurate. However, as a result of comments to the NPRM, this final rule only requires manufacturers to report the allowable load carrying capacity. Therefore, in this final rule, in place of requiring scales with an accuracy of plus or minus one percent of the actual reading, we require the statement: “The combined weight of occupants and cargo should never exceed XXX kg or XXX lbs” on motor homes, and the statement: “The weight of cargo should never exceed XXX kg or XXX lbs” on RV trailers. These statements are required to state weights that will not overload the vehicle. These requirements allow manufacturers to understate (but not overstate) the weight value for load carrying capacity. This will assure that when the consumer loads the vehicle to the stated load carrying capacity, the GVWR will not be exceeded.

When the manufacturer states that the load carrying capacity must not exceed a certain weight value, it means that the stated load carrying capacity weight value plus the UVW is less than or equal to the GVWR. The manufacturer must consider product variability to ensure that the load carrying capacity plus the UVW does not exceed the GVWR. If, after the RV leaves the manufacturing facility and before first retail sale, additional weight is added whose total exceeds the threshold set by this final rule (the lesser of 1.5 percent of GVWR or 100 pounds), the load carrying capacity information must be corrected by the dealer. The total weight added by the dealer, however, cannot exceed the load carrying capacity weight value initially provided by the vehicle manufacturer.

Regarding Walker's comments which stated that if a hitch is installed on a motor home, the weight of the hitch, as well as the weight value of the hitch rating should be included in the UVW, NHTSA does not favor such a requirement. If a hitch is installed by a manufacturer on any vehicle before final vehicle certification and delivery to the dealer/service facility, the physical weight of the hitch must be included in the vehicle's UVW value. If a hitch is installed by a dealer/service facility on any vehicle after final vehicle certification, the weight of the hitch contributes to the weight of added items installed after final vehicle certification and before first retail sale. When the weight of such items exceeds the threshold set by this final rule (the lesser of 1.5 percent of GVWR or 100 pounds), the load carrying capacity information is corrected by the dealer/service facility.

If the consumer installs a hitch or has a hitch installed after taking delivery of the vehicle, the consumer should subtract the physical weight of the hitch from available load carrying capacity. When the consumer applies tongue weight to any hitch in the form of a towed vehicle or cargo carrier, the consumer must subtract such weight from the available load carrying capacity. The intent of the motor home OCCC label and the RV trailer CCC label on the vehicle is to encourage consumers to determine an accurate value of load carrying capacity according to their particular loading situation.

NHTSA does not favor including fictitious weight in the UVW in anticipation that the consumer will overload the vehicle. Therefore, a consumer whose vehicle is equipped with a hitch, but is not towing a vehicle or using a hitch mounted cargo carrier, will know that additional load carrying capacity is available. An advisory statement on the motor home OCCC label informs consumers that towed vehicle tongue weight is cargo that counts against the total load carrying capacity.

Regarding RVDA's request that NHTSA develop a consistent set of rules or weighing procedures for RVs, NHTSA believes that such information is best left up to manufacturers to provide. Other sources for weighing information can be obtained from organizations such as the Recreation Vehicle Safety Education Foundation and the RVIA.

3. Numbering in Proposed FMVSS No. 110 Regulatory Text—Comments from AIAM and the Alliance indicated that the proposed changes to FMVSS No. 110 regulatory text in the NPRM will eliminate the current requirement in S4.3 (a) that relates to vehicle tire placards. Both sought clarification regarding the proposed amendment.

NHTSA agrees with AIAM, and the Alliances' comments. In this final rule the language has been moved to separate sections (S9 and S10) where it won't affect existing tire placard requirements.

4. Scope of Notice for Joint Petition Issues—Comments from NTEA asked if the August 31, 2005 NPRM has a broad enough scope to encompass all of the issues presented in the previously submitted Joint Petition ¹² that was placed in the docket or whether the issues will be addressed in a supplemental notice of proposed rulemaking (SNPRM). NATM expressed concern that NHTSA will not be able to consider many of the Joint Petition's requested changes as the changes may be out of scope of the present rulemaking. NADA urged NHTSA to consider whether an SNPRM should be issued addressing the concerns expressed in the Joint Petition in order to provide interested parties with the opportunity for notice and comment.

¹² “Joint Petition” means the “Joint Petition for Rulemaking and Interim Relief: Federal Motor Vehicle Safety Standard (FMVSS) No. 110; Vehicle Capacity Weight and Tire Information” dated July 29, 2005 which was submitted to NHTSA by a group of trade organizations through Mike Kastner (NTEA) and Douglas Greenhaus (NADA). The document is available in docket NHTSA-2005-22242-3.

NHTSA originally drafted the cargo carrying capacity NPRM to specifically require load carrying capacity information on a label for heavy RVs. Before the NPRM was published, issues arose regarding the load carrying capacity information required on the tire placard for light vehicles. According to FMVSS No. 110 and as explained in a subsequent interpretation, added weight prior to first retail sale that made the load carrying capacity information on the tire placard inaccurate had the effect of requiring the dealer/service facility adding the weight to replace the tire placard in order to correct the load carrying capacity weight values. This meant that the addition of even small amounts of weight could require re-placarding.

As the Joint Petition issue was related to that NPRM, a proposed solution was drafted and included in the heavy RV cargo carrying capacity NPRM, which proposed but did not require the load carrying capacity information to be corrected when insignificant amounts of weight were added. This solution was proposed for all light vehicles and all heavy RVs.

NHTSA did not propose all of the specific items requested by the Joint Petition; it is, however, providing a further response to the petition in this document.

5. Response to Issues of the Joint Petition—The Joint Petition that appears in docket NHTSA-2005-22242-3 raised five basic issues.

The Joint Petition argued that the load carrying capacity statement required by FMVSS No. 110 should allow for a reasonable tolerance in the calculation of the load carrying capacity or not require action unless load carrying capacity is reduced by at least 100 kg (220 pounds). This final rule addresses this issue by adopting a threshold of the lesser of 1.5 percent of GVWR or 100 pounds. While this is lower than the amount requested in the Joint Petition, we believe it addresses the concerns raised in the petition.

Also, in the NPRM we proposed that the unloaded vehicle weight for heavy RVs be determined with scales that have a minimum accuracy of plus or minus one percent of the actual reading.

Since, in this final rule, the label format has changed and manufacturers will only be reporting the weight allotted for passengers and cargo or simply cargo in the case of RV trailers, we are requiring that the stated load carrying capacity not overload the vehicle. The GVWR of the vehicle must not be exceeded when the vehicle is loaded with the stated load carrying capacity. Manufacturers are permitted to understate the value of load carrying capacity to compensate for variances in manufacturing techniques, materials, and weighing techniques, however, under no circumstances is an overstated value of load carrying capacity permitted. Any inaccuracies due to scale tolerances and variances in manufacturing techniques or materials must be compensated for by appropriately increasing the safety factor between the allotted weight for occupants and cargo (or just cargo in the case of RV trailers) and the GVWR. Accordingly, the probability of moisture absorption by wooden structures before first retail sale should be considered in assigning the load carrying capacity.

The Joint Petition also requested that the weight value listed on the original tire placard be labeled as “estimated.” This request is denied because the load carrying capacity is not merely an estimate. The manufacturer must determine that the vehicle will not exceed GVWR when carrying the “load carrying capacity” weight. This final rule requires an accurate determination of load carrying capacity.

As an alternative to the first two issues, the Joint Petition requested that the load carrying capacity be labeled as “originally manufactured.” This request is denied because it is not an accurate statement to a purchaser of the vehicle's load carrying capacity. However, the final rule does address basic concerns in the context of the first issue of the Joint Petition, regarding a reporting threshold for added weight. Thus, the labeled load carrying capacity reflects both the vehicle as originally manufactured and any reduction in load carrying capacity that occurs beyond a given threshold before the first retail sale. Also, in an interpretation written to John Russell Deane III, Esq. on April 7, 2005, NHTSA stated that regulations do not require changes to the tire safety information placard if the changes to the vehicle occur after it is first sold for purposes other than retail sale.

The Joint Petition also asked for clarification of whether placards/labels may still be modified in lieu of being replaced. This issue is addressed in this final rule. There are three methods available to dealers/service facilities for updating load capacity information:

1. Replacement of original placard/label with a new placard/label with updated information.

2. Modification of original placard/label in order to update information. This must be accomplished with an overlay that maintains the original appearance of the placard/label. The overlay may have blanks where the updated weight values may be legibly printed by hand with a fine point indelible marker.

3. Addition of the Load Carrying Capacity Modification Label within 25 mm of the placard/label being corrected which indicates the amount the load carrying capacity is reduced. The load carrying capacity modification labels may have blank spaces where the value of load carrying capacity reduction may be legibly printed by hand with a fine point indelible marker.

Finally, the Joint Petition asked if any revised cargo capacity weight may be calculated by subtracting total added weight from the stated load capacity weight on the existing tire placard or label. It also asked if the total added weight may be determined by using the supplier's stated shipping weight of the equipment, or its weight as determined by commercially reasonable scales. This issue is addressed in this final rule. Dealers/service facilities may determine total added weight by using any means that result in accurate weights. It is up to the dealers/service facilities to decide how to achieve accurate weights. Since the vehicle manufacturer has certified the vehicle with the stated load capacity weight on the existing tire placard or label as long as the dealers/service facilities have reason to believe the stated weights on the placard or label, it is reasonable for dealers/service facilities to rely on this so long as they have reason to believe the stated weights on the placard or label have not changed.

If the total added weight exceeds the lesser of 1.5 percent GVWR or 100 pounds, the load carrying capacity information must be corrected on the tire placards and RV load carrying capacity labels.

6. The Meaning of “Stated Weight Ratings” in FMVSS No. 110

In a November 30, 2005 request for interpretation submitted by all of the Joint Petitioners except the National Trailer Dealers Association, NHTSA was asked to address a series of questions about the Tire Safety Information Rule of November 18, 2002 (67 FR 69600). One question was whether the term “stated weight ratings” used in 49 CFR Sections 567.3, 567.6, and 567.7 refers to a vehicle's gross vehicle weight rating as defined in 49 CFR Section 571.3. In a January 22, 2007 interpretation letter responding to that request, NHTSA noted that “stated weight rating” is used in both 49 CFR Part 567 and in FMVSS No. 110. We stated that: “In responding to the petitions for rulemaking, we will address the meaning of this term in Part 567 and FMVSS No. 110, and the interrelationship between these provisions.”

We note that in a final rule of February 14, 2005 (70 FR 7414), Part 567 was reissued. The changes took effect on September 1, 2006. The term “stated weight ratings” in Part 567 (particularly in the definition of “altered vehicle” at Section 567.3) refer to a vehicle's stated weight ratings, in other words, the Gross Axle Weight Rating (GAWR) and Gross Vehicle Weight Rating (GVWR). The use of the term “vehicle's stated weight ratings” is long-standing in Part 567, and was used in Part 567 before the final rule of February, 2005. See also Section 567.7, Requirements for persons who alter certified vehicles.

The November 18, 2002 Tire Safety Information Final Rule amending FMVSS No.110 added S4.3.2. Requirements for altered vehicles. This paragraph incorporated language from the then-existing version of Section 567.7 Requirements for persons who alter certified vehicles, including the term “stated weight ratings.”

As explained in the preamble, that final rule required alterers, where necessary, to affix a new placard, containing accurate information for the altered vehicle, over the placard installed by the vehicle manufacturer, so as to obscure the original placard. See 67 FR at 69618.

The language of S4.3.2 indicates that it applies to alterers.¹³ Not all persons who make changes to certified vehicles prior to first sale are considered alterers. (If someone is an alterer, they have certification responsibilities under Part 567.) The question of whether someone is an alterer is determined under Part 567.

¹³ Compare the language of S4.3.2 with the definition of “alterer” in Part 567.

We note, however, that regardless of whether a person (such as a dealer) making changes to a vehicle prior to first sale is considered an alterer, they are subject to other legal requirements. Under 49 U.S.C. 30112, a dealer may not sell vehicles or equipment that do not comply with applicable safety standards. Also, 49 U.S.C. 30122 prohibits dealers, manufacturers, and certain other entities from “making inoperative, in whole or in part” any part of a device or element of design installed on or in a motor vehicle in compliance with an applicable motor vehicle safety standard. Accordingly, a dealer would need to correct the tire information placard if, after the dealer installs additional equipment, the required information is no longer accurate.

As discussed earlier, in this final rule, NHTSA is providing regulatory relief related both to the circumstances under which re-labeling is required and the means by which it is done. The new/revised requirements are in FMVSS No. 110, at S10 Weight added to vehicles between final vehicle certification and first retail sale of the vehicle. This section is not limited to alterers, i.e., it applies regardless of whether the person adding the weight is considered an alterer.

We are not removing the language of S4.3.2 since it has broader applicability than situations where weight is added. We note, however, that if the addition of weight is the only relevant issue and the situation is addressed by the provisions of S10, alterers need not separately meet 4.3.2. To make this clear, we are adding the phrase “Except as provided in S10,” at the beginning of S4.3.2.

7. Issues Outside the Scope of Rulemaking—The purpose of this rulemaking is to provide load carrying capacity information to purchasers of RVs. It also is intended to provide an alternate means to correct load carrying capacity information on all light vehicles and heavy RVs when weight exceeding the lesser of 1.5 percent of GVWR or 100 pounds is added between final vehicle certification and first retail sale. We note that some NPRM comments re-raise old issues related to previous tire placarding rulemakings that are outside the scope of this rulemaking and are not addressed in this final rule.

Additionally, it should be noted that the load carrying capacity labels required by this final rule are intended to inform consumers of the RV's load carrying capacity they are about to purchase and to remind them of the RV's load carrying capacity after purchase and during use. Although knowledge of the RV's load carrying capacity may prevent consumers from exceeding the RV's GVWR, it does not prevent consumers from distributing loads in a fashion that would cause individual tires or components from being overloaded. As various makes/models of RVs each have its own characteristics, it is difficult for consumers to know the correct weight distribution without weighing the loaded vehicle at each individual tire. Manufacturers are urged to provide consumers with as much guidance as possible in the vehicle owner's manual relative to the proper distribution of cargo loads.

V. Final Rule

In this final rule, NHTSA amends 49 CFR 571.3 (Definitions), FMVSS No. 110, and FMVSS No. 120 as described above. We require manufacturers of all motor homes and recreation vehicle (RV) trailers to provide information to consumers in a label that informs the consumer about the vehicle's load carrying capacity. The final rule defines “recreation vehicle trailer,” and adds new language that would include weights for water and propane tanks for motor homes and recreation vehicle (RV) trailers. We also require that the size of tires on motor homes and RV trailers be the same as the size of tires listed on the vehicle certification label or tire information label.

For motor homes, we adopt labels that display the VIN, the weight allotted for occupants and cargo, the weight of a full load of water, the unit weight of water and cautionary statements that the weight of water is part of cargo and the tongue weight of a towed trailer counts as cargo. In addition, for motor homes, NHTSA requires that the safety belt equipped seating capacity be included on the label.

For RV trailers, we adopt labels that display the VIN, the weight allotted for cargo, the weight of a full load of water, the unit weight of water and a cautionary statement that the weight of water is part of cargo.

To promote a consistent label location, this final rule specifies that cargo carrying capacity labels be affixed to the interior of the forward-most exterior passenger door on the right side of the vehicle and be visible. As an alternative (due to aesthetic considerations) NHTSA permits manufacturers to place a temporary label to the interior of the forward-most exterior passenger door on the right side of the vehicle and apply a permanent label in the area of the vehicle specified by FMVSS Nos. 110 and 120 for tire information.

In addition, this final rule adopts a threshold for correcting load carrying capacity information of the lesser of 1.5 percent of GVWR or 100 pounds, greatly decreasing the need to correct the information. When the load carrying capacity is increased beyond the lesser of 1.5 percent of GVWR or 100 pounds, between final vehicle certification and the first retail sale, NHTSA permits the use of generic labels where corrected values can be legibly entered using a black, fine point, indelible marker. This permits dealers to stock one generic load carrying capacity modification label.

In this final rule, the addition of the load carrying capacity modification label is one of three options that can be used to correct load carrying capacity information. Dealers/service facilities are permitted to: (1) Replace existing tire placards, motor home OCCC labels or RV trailer CCC labels with new placards/labels containing correct load carrying capacity information; (2) modify existing tire placards, motor home OCCC labels or RV trailer CCC labels so they display correct load carrying capacity information; or (3) add a load carrying capacity modification label within 25 mm of existing tire placard and/or the motor home OCCC label or RV trailer CCC label.

VI. Leadtime

Since we had no public comment on the leadtime issue, the amendments in this final rule take effect, as proposed, 180 days (approximately six months) after the final rule is published. We note that the new labeling requirements in this final rule do not require manufacturers to collect or provide any information other than that already voluntarily provided by motor home and travel trailer manufacturers that are members of the Recreational Vehicle Industry Association.

The provisions in this final rule amending FMVSS No. 110 were made to provide regulatory relief to dealers that may add weight no more than 1.5 percent of gross vehicle weight rating (or 100 pounds if less) after certification of vehicles and before first retail sale of the vehicles. Thus, optional compliance with this final rule is available as of the date this final rule is published in the Federal Register.

VII. Regulatory Analyses and Notices

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the impact of this rulemaking action under Executive Order 12866 and the Department of Transportation's regulatory policies and procedures. This rulemaking document was not reviewed by the Office of Management and Budget under E.O. 12866, “Regulatory Planning and Review.” The rulemaking action is also not considered to be significant under the Department's Regulatory Policies and Procedures (44 FR 11034; February 26, 1979).

For the following reasons, we believe that this final rule will not have any quantifiable cost effect on manufacturers of motor homes or RV trailers. As discussed earlier, the labeling requirements in this rule parallel the labels already required by the Recreational Vehicle Industry Association (RVIA) for RIVA members. Approximately 95 percent of affected motor home and travel trailer manufacturers are RVIA members. Thus, the final rule will have new labeling requirements on only approximately 5 percent of recreational vehicle manufacturers. The RV labels specified in this final rule are simpler, less complex versions of the labels proposed in the NPRM.

In addition, this provides regulatory relief for dealers from an existing labeling requirement in the safety standard on tire selection and rims. Dealers that add items to covered vehicles exceeding the lesser of 100 pounds or 1.5 percent of the vehicles' gross vehicle weight ratings, will be required to disclose this extra weight on labels affixed to the vehicles. No labels are required for the addition of weight that does not exceed the lesser of 1.5 percent of the vehicle's gross vehicle weight rating or 100 pounds.

In its NPRM comments, Toyota stated that NHTSA has not provided a cost benefit analysis regarding load carrying capacity modification labels. NTEA commented that scales are too expensive for every dealership and final stage manufacturer to own.

For light vehicles, the requirements for the tire placard and the load carrying capacity information on the tire placard were established by previous FMVSS No. 110 rulemakings. The load carrying capacity modification label proposed in the August 15, 2005 NPRM was not meant to be a new requirement, but an option that may be used in lieu of replacing or modifying the original tire placard as required by FMVSS No. 110. This option was adopted in this final rule. Dealers/service facilities can choose to replace or modify the tire placard rather than apply the load carrying capacity modification label.

For motor home OCCC labels and RV trailer CCC labels required on RVs, members of the RVIA, which include 95 percent of the RV industry, have displayed cargo carrying capacity information voluntarily for years. This final rule standardizes and makes such information mandatory, and mandates its placement in a prominent location. Also, NHTSA has adopted the RVIA suggestion that the load carrying capacity labeling requirements in the NPRM be extended to all RVs.

As previously stated, dealers/service facilities can use any accurate method for determining the weight of added items. We note that if a dealer/service facility chooses to use a scale, most consumer electronic bathroom scales provide readings from 0 to 350 pounds and can provide repeatable readings within plus or minus one percent of the actual weight. Bathroom scales are inexpensive and would be suitable for weighing smaller items. Dealer/service facilities can also purchase larger commercial scales to weigh larger items, if necessary.

Because the economic impacts of this proposal are so minimal, no separate regulatory evaluation is necessary.

B. Executive Order 13132 (Federalism)

NHTSA has examined today's final rule pursuant to Executive Order 13132 (64 FR 43255, August 10, 1999) and concluded that no additional consultation with States, local governments, or their representatives is mandated beyond the rulemaking process. The agency has concluded that the rule does not have federalism implications, because the rule does not have “substantial direct effects on the States, on the relationship between the national government and the States, or on the distribution of power and the responsibilities among the various levels of government.”

Further, no consultation is needed to discuss the preemptive effect of today's rule. NHTSA rules can have preemptive effect in at least two ways. First, the National Traffic and Motor Vehicle Safety Act contains an express preemptive provision: “When a motor vehicle safety standard is in effect under this chapter, a State or a political subdivision of a State may prescribe or continue in effect a standard applicable to the same aspect of performance of a motor vehicle or motor vehicle equipment only if the standard is identical to the standard prescribed under this chapter.” 49 U.S.C. 30102(b)(1).

In addition to the express preemption noted above, the Supreme Court has also recognized that State requirements imposed on motor vehicle manufacturers, including sanctions imposed by State tort law, can stand as an obstacle to the accomplishment and execution of a NHTSA safety standard. When such a conflict is discerned, the Supremacy Clause of the Constitution makes their State requirements unenforceable. See Geier v. American Honda Motor Co., 529 U.S. 861 (2000). NHTSA has not outlined such potential State requirements in today's rulemaking, however, in part because such conflicts can arise in varied contexts, but it is conceivable that such a conflict may become clear through subsequent experience with changes made in today's final rule. NHTSA may opine on such conflicts in the future, if warranted. See id. at 883-86.

C. Executive Order 13045 (Economically Significant Rules Affecting Children)

Executive Order 13045 (62 FR 19885, April 23, 1997) applies to any rule that: (1) Is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This rule is not subject to the Executive Order because it is not economically significant as defined in E.O. 12866 and does not involve decisions based on environmental, health or safety risks that disproportionately affect children. This final rule makes changes affecting motor home manufacturers and travel trailer manufacturers. It has a beneficial impact on children traveling in motor homes and recreation vehicle trailers because the new labeling requirements in this final rule provides information to help their parents or guardians keep from overloading the vehicles.

D. Executive Order 12988 (Civil Justice Reform)

With respect to the review of the promulgation of a new regulation, section 3(b) of Executive Order 12988, “Civil Justice Reform” (61 FR 4729, February 7, 1996) requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) adequately defines key terms; and (6) addresses other important issues affecting clarity and general draftsmanship under any guidelines issued by the Attorney General. This document is consistent with that requirement. Pursuant to this Order, NHTSA notes as follows. The preemptive effect of this rule is discussed above. NHTSA notes further that there is no requirement that individuals submit a petition for reconsideration or pursue other administrative proceeding before they may file suit in court.

E. Regulatory Flexibility Act

Pursuant to the Regulatory Flexibility Act (5 U.S.C. 601 et seq., as amended by the Small Business Regulatory Enforcement Fairness Act (SBREFA) of 1996) whenever an agency is required to publish a notice of rulemaking for any proposed or final rule, it must prepare and make available for public comment a regulatory flexibility analysis that describes the effect of the rule on small entities (i.e., small businesses, small organizations, and small governmental jurisdictions). However, no regulatory flexibility analysis is required if the head of an agency certifies the rule would not have a significant economic impact on a substantial number of small entities. SBREFA amended the Regulatory Flexibility Act to require Federal agencies to provide a statement of the factual basis for certifying that a rule would not have a significant economic impact on a substantial number of small entities.

The Administrator considered the effects of this rulemaking action under the Regulatory Flexibility Act (5 U.S.C. 601 et seq.) and certifies that this rule will not have a significant economic impact on a substantial number of small entities. The factual basis for this certification is that this final rule minimally affects small U.S. motor home manufacturers or small U.S. travel trailer manufacturers. The U.S. Small Business Administration's regulations at 13 CFR 121.201 defines a small “motor home manufacturer” (NAICS Code 336213) as a “business entity organized for profit, with a place of business located in the United States, and which operates primarily within the United States or which makes a significant contribution to the U.S. economy through payment of taxes or use of American products, materials or labor.” (See 13 CFR 121.105) that employs fewer than 1,000 employees. RV trailer and camper manufacturers (NAICS Code 336214) on the other hand, have a size standard of fewer than 500 employees.

NHTSA believes that most RVIA members are small businesses. As earlier discussed, 95 percent of RVIA members are already providing to their customers labeling information that parallel the information specified in this NPRM. The RV labels specified in this final rule are simpler versions of the labels proposed in the NPRM.

F. National Environmental Policy Act

We have analyzed this final rule for the purposes of the National Environmental Policy Act and determined that it would not have any significant impact on the quality of the human environment.

G. Paperwork Reduction Act

Under the Paperwork Reduction Act of 1995, a person is not required to respond to a collection of information by a Federal agency unless the collection displays a valid Office of Management and Budget (OMB) control number. This final rule introduces new information collection requirements in that the new regulation requires certain disclosures to third parties. Information collection under this final rule consists of a load carrying capacity label applied to all motor homes and recreation vehicle (RV) trailers. If the original information is changed, this information collection also requires a load carrying capacity modification label to correct the original load carrying capacity information on all RVs and light vehicles when significant additional weight is added between final vehicle certification and first retail sale.

If the total weight added by dealers/service facilities between final vehicle certification and first retail sale exceeds the lesser of 1.5 percent of GVWR or 100 pounds, the original load carrying capacity information must be corrected. Corrections can be made via the load carrying capacity modification label described in this final rule or by provisions in a previous rulemaking which allows original labels to be corrected by modification or replacement. Our estimates of the burden that this rulemaking imparts on all motor home and RV trailer manufacturers and manufacturers of light vehicles other than motor homes are given below. There is no burden to non-manufacturers or non-dealers.

RV estimates are based on the fact that approximately 95 percent of all RV manufacturers currently belong to RVIA and already voluntarily apply load carrying capacity labels to the vehicles they produce. When this rulemaking becomes a final rule, these 95 percent of RVs will replace the current voluntary label with the NHTSA label at no additional cost. Therefore, any additional cost for information collection imparted by this final rule is a result of the remaining 5 percent of RV manufacturers to apply load carrying capacity labels and the cost to RV dealers/service facilities that choose to apply the load carrying capacity modification label. The cost to manufacturers of light vehicles other than RVs is minimal as most vehicles will not exceed the added-weight threshold and dealers/service facilities will not be required update load carrying capacity information. The additional cost for information collection to light vehicle manufacturers other than RV manufacturers results from those who choose to correct load carrying capacity information by applying the load carrying capacity modification label. The label is not mandatory; it is simply an alternative to correcting load carrying capacity information by replacing or updating the original tire placard/label when the weight threshold is exceeded.

The following are the cost and hour burden estimates resulting from the CCC information requirements in this final rule. Numbers are based on 2005 estimates.

RV manufacturers and manufacturers of light vehicles other than RVs already have the following knowledge, information and resources and therefore these items will not impose any additional costs and/or burden hours.

• Vehicle gross vehicle weight rating (GVWR).

• Means to print or procure labels.

• Scale system for weighing vehicles.

Estimated annual burden hours on the 5 percent of RV manufacturers that are not RVIA members to weigh an RV in order to determine unloaded vehicle weight (UVW)

Estimated burden hours to weigh an RV = .16 hours/RV

Approximately 419,500 RVs shipped in 2005

It is estimated that 5 percent or 20,975 RVs/year currently do not voluntarily display CCC information as their manufacturers are not members of RVIA.

20,975 RVs/year × 0.16 hours/RV = 3,356 hours/year

Estimated annual cost to the 5 percent of RV manufacturers that are not RVIA members to procure or produce motor home OCCC labels and RV trailer CCC labels

Estimated cost to produce labels = $0.15/ RV

Approximately 419,500 RVs shipped in 2005

It is estimated that 5 percent or 20,975 RVs/year currently do not voluntarily display CCC information as their manufacturers are not members of RVIA.

20,975 RVs/year × $ 0.15/RV = $3,146/year

Estimated annual burden hours on the 5 percent of RV manufacturers that are not RVIA members to install motor home OCCC labels and RV trailer CCC labels

Estimated burden hours to install labels = 0.02 hours/RV

Approximately 419,500 RVs shipped in 2005

It is estimated that 5 percent or 20,975 RVs/year currently do not voluntarily display CCC information as their manufacturers are not members of RVIA.

20,975 RVs/year × 0.02 hours/RV = 420 hours/year

Estimated annual cost to RV manufacturers to procure or produce the load carrying capacity modification labels when necessary

Estimated cost to procure or produce labels = $0.05/RV

Approximately 419,500 RVs shipped in 2005

An estimated 25 percent or 104,875 RVs/year will receive the CCC modification label.

104,875 RVs/year × $0.05/RV = $5,245/year

Estimated annual burden hours on RV manufacturers to install the load carrying capacity modification labels when necessary

Estimated burden hours to install labels = 0.02 hours/RV

Approximately 419,500 RVs shipped in 2005

An estimated 25 percent or 104,875 RVs/year will receive the CCC modification label.

104,875 RVs/year × 0.02 hours/RV = 2,098 hours/year

Estimated annual cost to light vehicle manufacturers to procure or produce the load carrying capacity modification labels when necessary

Estimated cost to procure or produce labels = $0.05/light vehicle

Approximately 17,000,000 light vehicles shipped in 2005

An estimated 1 percent or 170,000 light vehicles/year will receive the CCC modification label.

170,000 light vehicles/year × $0.05/light vehicle = $8,500/year

Estimated annual burden hours on light vehicle manufacturers to insert values and install the load carrying capacity modification labels when necessary/desired

Estimated burden hours to install labels = 0.02 hours/light vehicle

Approximately 17,000,000 light vehicles shipped in 2005

An estimated 1 percent or 170,000 light vehicles/year will receive the CCC modification label.

170,000 light vehicles/year × 0.02 hours/light vehicle = 3,400 hours/year

Total estimated burden hours and cost 9274 hours/year

$16,891/year

H. National Technology Transfer and Advancement Act

Section 12(d) of the National Technology Transfer and Advancement Act of 1995 (NTTAA), Public Law 104-113, section 12(d) (15 U.S.C. 272) directs us to use voluntary consensus standards in our regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

After conducting a search of available sources, we have decided to specify labels similar to those used by the Recreational Vehicle Industry Association, advising consumers of cargo carrying capacity for motor homes and travel trailers, and providing advisories.

I. Unfunded Mandates Reform Act

This rule will not impose any unfunded mandates under the Unfunded Mandates Reform Act of 1995. This rule will not result in costs of $100 million or more to either State, local, or tribal governments, in the aggregate, or to the private sector. Thus, this rule is not subject to the requirements of sections 202 and 205 of the UMRA.

J. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make this rulemaking easier to understand?

In response to public comments on the NPRM, in this final rule, NHTSA includes an Appendix A that summarizes the label requirements for various vehicle/GVWR combinations. The scenarios assume use of the load carrying capacity modification label when load carrying capacity information is corrected. This explanation is offered as a Plain Language guide to the various labels and figure numbers. An explanation of the labels applicable to each vehicle type (i.e., light vehicles other than RVs, light RVs, and heavy RVs) is set forth in the appendix.

K. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

List of Subjects in 49 CFR Part 571

Imports, Motor vehicle safety, Motor vehicles, Rubber and rubber products, Tires.

In consideration of the foregoing, the Federal Motor Vehicle Safety Standards (49 CFR Part 571), are amended as set forth below.

PART 571—FEDERAL MOTOR VEHICLE SAFETY STANDARDS

1. The authority citation for part 571 continues to read as follows:

Authority: 49 U.S.C. 322, 30111, 30115, 30117, and 30166; delegation of authority at 49 CFR 1.50.

2. Section 571.3 of title 49, Code of Federal Regulations, is amended by revising the definition of “motor home” and adding a definition of “recreation vehicle trailer,” in the appropriate alphabetical order, to read as follows:

§ 571.3 Definitions.

* * * * *

Motor home means a multi-purpose vehicle with motive power that is designed to provide temporary residential accommodations, as evidenced by the presence of at least four of the following facilities: cooking; refrigeration or ice box; self-contained toilet; heating and/or air conditioning; a potable water supply system including a faucet and a sink; and a separate 110-125 volt electrical power supply and/or propane.

* * * * *

Recreation vehicle trailer means a trailer, except a trailer designed primarily to transport cargo, designed to be drawn by a vehicle with motive power by means of a bumper, frame or fifth wheel hitch and designed to provide temporary residential accommodations, as evidenced by the presence of at least four of the following facilities: cooking; refrigeration or ice box; self-contained toilet; heating and/or air conditioning; a potable water supply system including a faucet and a sink; and a separate 110-125 volt electrical power supply and/or propane. “Recreation vehicle trailer” includes trailers used for personal purposes, commonly known as “sport utility RVs” or “toy haulers,” which usually have spacious rather than incidental living quarters and provide a cargo area for smaller items for personal use such as motorcycles, mountain bikes, all terrain vehicles (ATVs), snowmobiles, canoes or other types of recreational gear.

* * * * *

3. Section 571.110 of title 49, Code of Federal Regulations, is amended by: revising the section heading; by revising S1; by adding to the introductory paragraph of S4.3, ninth and tenth sentences; by revising S4.3.2; by adding to S4.3.5, fifth and sixth sentences; by adding S9 through S9.3.8; and by adding S10 through S10.2 to read as as follows:

§ 571.110 Tire selection and rims and motor home/recreation vehicle trailer load carrying capacity information for motor vehicles with a GVWR of 4,536 kilograms (10,000 pounds) or less.

S1. Purpose and scope. This standard specifies requirements for tire selection to prevent tire overloading and for motor home/recreation vehicle trailer load carrying capacity information.

* * * * *

S4.3 Placard. * * * If the vehicle is a motor home and is equipped with a propane supply, the weight of full propane tanks must be included in the vehicle's unloaded vehicle weight. If the vehicle is a motor home and is equipped with an on-board potable water supply, the weight of such on-board water must be treated as cargo.

* * * * *

S4.3.2 Requirements for altered vehicles. Except as provided in S10, a new placard or placard and label shall be affixed, so as to obscure the original placard, to an altered vehicle that has previously been certified in accordance with § 567.4 or § 567.5, other than by the addition, substitution, or removal of readily attachable components such as mirrors or tire and rim assemblies, or minor finishing operations such as painting, or who alters the vehicle in such a manner that its stated weight ratings are no longer valid, before the first purchase of the vehicle in good faith for purposes other than resale, containing accurate information for the altered vehicle, in accordance with S4.3.

* * * * *

S4.3.5 Requirements for trailers. * * * If the vehicle is a recreation vehicle trailer and is equipped with a propane supply, the weight of full propane tanks must be included in the vehicle's unloaded vehicle weight. If the vehicle is a recreation vehicle trailer and is equipped with an on-board potable water supply, the weight of such on-board water must be treated as cargo.

* * * * *

S9. Each motor home and recreation vehicle (RV) trailer must meet the applicable requirements in S9.

S9.1 On motor homes, the sum of the gross axle weight ratings (GAWR) of all axles on the vehicle must not be less than the gross vehicle weight rating (GVWR).

S9.2 On RV trailers, the sum of the GAWRs of all axles on the vehicle plus the vehicle manufacturer's recommended tongue weight must not be less than the GVWR. If tongue weight is specified as a range, the minimum value must be used.

S9.3 Each motor home and RV trailer single stage or final stage manufacturer must affix either a motor home occupant and cargo carrying capacity (OCCC) label (Figure 3) or a RV trailer cargo carrying capacity (CCC) label (Figure 4) to its vehicles that meets the following criteria:

S9.3.1 The RV load carrying capacity labels (Figures 3 and 4) and the RV supplemental labels (Figures 5 and 6) required by S9.3.3(b) must be legible, visible, moisture resistant, presented in the English language, have a minimum print size of 2.4 millimeters (3/32 inches) high and be printed in black print on a yellow background.

S9.3.2 The weight value for load carrying capacity on the RV load carrying capacity labels (Figures 3 and 4) must be displayed to the nearest kilogram with conversion to the nearest pound and must be such that the vehicle does not exceed its GVWR when loaded with the stated load carrying capacity. The UVW and the GVWR used to determine the RV's load carrying capacity must reflect the weights and design of the motor home or RV trailer as configured for delivery to the dealer/service facility. If applicable, the weight of full propane tanks must be included in the RV's UVW and the weight of on-board potable water must be treated as cargo.

S9.3.3 An RV load carrying capacity label (Figures 3 or 4) must be:

(a) Permanently affixed and must be visibly located on the interior of the forward-most exterior passenger door on the right side of the vehicle or; at the option of the manufacturer,

(b) A temporary version of the RV load carrying capacity label (Figures 3 or 4) must be visibly located on the interior of the forward-most exterior passenger door on the right side of the vehicle. A permanent motor home or RV trailer supplemental label (Figures 5 or 6) must be permanently affixed within 25 millimeters of the placard specified in S4.3 for motor homes and S4.3.5 for RV trailers.

S9.3.4 Permanent and temporary motor home OCCC labels must contain the following information in accordance with Figure 3:

(a) The statement: “MOTOR HOME OCCUPANT AND CARGO CARRYING CAPACITY” in block letters.

(b) The Vehicle Identification Number (VIN).

(c) The statement “THE COMBINED WEIGHT OF OCCUPANTS AND CARGO SHOULD NEVER EXCEED: XXX kg or XXX lbs” in block letters with appropriate values included.

(d) The statement “Safety belt equipped seating capacity: XXX” with the appropriate value included. This is the total number of safety belt equipped seating positions.

(e) The statement “CAUTION: A full load of water equals XXX kg or XXX lbs of cargo @ 1 kg/L (8.3 lb/gal) and the tongue weight of a towed trailer counts as cargo” with appropriate values included.

S9.3.5 Permanent and temporary RV trailer CCC labels must contain the following information in accordance with Figure 4:

(a) The statement: “RECREATION VEHICLE TRAILER CARGO CARRYING CAPACITY” in block letters.

(b) The Vehicle Identification Number (VIN).

(c) The statement “THE WEIGHT OF CARGO SHOULD NEVER EXCEED: XXX kg or XXX lbs” in block letters with appropriate values included.

(d) The statement “CAUTION: A full load of water equals XXX kg or XXX lbs of cargo @ 1 kg/L (8.3 lb/gal)” with appropriate values included.

S9.3.6 For RVs, the vehicle capacity weight values and the seating capacity values (motor homes only) on the placard required by S4.3 or S4.3.5 must agree with the load carrying capacity weight values and the safety belt equipped seating capacity (motor homes only) on the RV load carrying capacity labels (Figures 3 and 4).

S9.3.7 The permanent motor home supplemental label must contain the following information in accordance with Figure 5:

(a) The statement “CAUTION: A full load of water equals XXX kg or XXX lbs of cargo @ 1 kg/L (8.3 lb/gal) and the tongue weight of a towed trailer counts as cargo” with appropriate values included.

S9.3.8 The permanent RV trailer supplemental label must contain the following information in accordance with Figure 6:

(a) The statement “CAUTION: A full load of water equals XXX kg or XXX lbs of cargo @ 1 kg/L (8.3 lb/gal)” with appropriate values included.

S10. Weight added to vehicles between final vehicle certification and first retail sale of the vehicle.

S10.1 If weight exceeding the lesser of 1.5 percent of GVWR or 45.4 kg (100 pounds) is added to a vehicle between final vehicle certification and first retail sale of the vehicle, the vehicle capacity weight values on the placard required by S4.3 or S4.3.5 and the load carrying capacity weight values on the RV load carrying capacity labels (Figures 3 and 4) required by S9.3 must be corrected using one or a combination of the following methods:

(a) Permanently affix load carrying capacity modification labels (Figure 7), which display the amount the load carrying capacity is reduced to the nearest kilogram with conversion to the nearest pound, within 25 millimeters of the original, permanent RV load carrying capacity label (Figure 3 or 4) and the original placard (Figure 1). The load carrying capacity modification labels must be legible, visible, permanent, moisture resistant, presented in the English language, have a minimum print size of 2.4 millimeters (3/32 inches) high and be printed in black print on a yellow background, or

(b) If the manufacturer selects S9.3.3(b), apply a temporary version of the load carrying capacity modification label (Figure 7) within 25 millimeters of the original, temporary RV load carrying capacity label (Figure 3 or 4) on the interior of the forward-most exterior passenger door on the right side of the vehicle, in addition to applying a permanent version of the same label within 25 mm of the placard required by S4.3 or S4.3.5. Both temporary and permanent versions of the load carrying capacity modification label (Figure 7) may be printed without values and values may be legibly applied to the label with a black, fine point, indelible marker. The label must contain the statements “CAUTION—LOAD CARRYING CAPACITY REDUCED” in block letters and “Modifications to this vehicle have reduced the original load carrying capacity by XXX kg or XXX lbs” in accordance with Figure 7. If two load carrying capacity modification labels are required (one permanent and one temporary), the weight values on each must agree, or

(c) Modify the original, permanent RV load carrying capacity labels (Figures 3 and 4) and the placard (Figure 1) with correct vehicle capacity weight values. If the manufacturer selects S9.3.3(b), the temporary RV load carrying capacity labels (Figures 3 and 4) must also be modified with correct vehicle capacity weight values. Modification of labels requires a machine printed overlay with printed corrected values or blanks for corrected values that may be entered with a black, fine-point, indelible marker. Crossing out old values and entering corrected values on the original label is not permissible, or

(d) Replace the original, permanent RV load carrying capacity labels (Figures 3 and 4) and the placard (Figure 1) with the same labels/placard containing correct vehicle capacity weight values. If the manufacturer selects S9.3.3(b), the temporary RV load carrying capacity labels (Figures 3 and 4) must also be replaced with the same labels containing correct vehicle capacity weight values.

S10.2 Corrected load carrying capacity weight values or the weight amount the load carrying capacity is reduced, must reflect the total weight added between final vehicle certification and first retail sale and must be accurate within one percent of the actual added weight. No action is required if the weight of the vehicle is reduced between final vehicle certification and first retail sale.

§ 571.110 [Amended]

4. Section 571.110 of title 49, Code of Federal Regulations, is amended by adding, after S10, Figure 3, Figure 4, Figure 5, Figure 6, and Figure 7 to read as follows:

BILLING CODE 4910-59-P

BILLING CODE 4910-59-C

5. Section 571.120 of title 49, Code of Federal Regulations, is amended by revising the section heading, by revising S1, by revising S2, and by adding S10 through S10.5.2 to read as follows:

§ 571.120 Tire selection and rims and motor home/recreation vehicle trailer load carrying capacity information for motor vehicles with a GVWR of more than 4,536 kilograms (10,000 pounds).

S1. Scope. This standard specifies tire and rim selection requirements, rim marking requirements and motor home/recreation vehicle trailer load carrying capacity information.

S2. Purpose. The purpose of this standard is to provide safe operational performance by ensuring that vehicles to which it applies are equipped with tires of adequate size and load rating and with rims of appropriate size and type designation, and by ensuring that consumers are informed of motor home/recreation vehicle trailer load carrying capacity.

* * * * *

S10. Each motor home and recreation vehicle (RV) trailer must meet the applicable requirements in S10.

S10.1 On motor homes, the sum of the gross axle weight ratings (GAWR) of all axles on the vehicle must not be less than the gross vehicle weight rating (GVWR).

S10.2 On RV trailers, the sum of the GAWRs of all axles on the vehicle plus the vehicle manufacturer's recommended tongue weight must not be less than the GVWR. If tongue weight is specified as a range, the minimum value must be used.

S10.3 The tires on each motor home and RV trailer at first retail sale must be the same size as the tire size on the labeling required by S5.3.

S10.4 Each motor home and RV trailer single stage or final stage manufacturer must affix either a motor home occupant and cargo carrying capacity (OCCC) label (Figure 1) or a RV trailer cargo carrying capacity (CCC) label (Figure 2) to its vehicles that meets the following criteria:

S10.4.1 The RV load carrying capacity labels (Figures 1 and 2) must be legible, visible, moisture resistant, presented in the English language, have a minimum print size of 2.4 millimeters (3/32 inches) high and be printed in black print on a yellow background.

S10.4.2 The weight value for load carrying capacity on the RV load carrying capacity labels (Figures 1 and 2) must be displayed to the nearest kilogram with conversion to the nearest pound and must be such that the vehicle's weight does not exceed its GVWR when loaded with the stated load carrying capacity. The UVW and the GVWR used to determine the RV's load carrying capacity must reflect the weights and design of the motor home or RV trailer as configured for delivery to the dealer/service facility. If applicable, the weight of full propane tanks must be included in the RV's UVW and the weight of on-board potable water must be treated as cargo.

S10.4.3 The RV load carrying capacity labels (Figures 1 and 2) must be:

(a) Permanently affixed and must be visibly located on the interior of the forward-most exterior passenger door on the right side of the vehicle; or

(b) If a permanent RV load carrying capacity label (Figure 1 or 2) is affixed in the location specified at S5.3(b), a temporary version of the RV load carrying capacity label (Figure 1 or 2) may be visibly located on the interior of the forward-most exterior passenger door on the right side of the vehicle.

S10.4.4 Permanent and temporary motor home OCCC labels must contain the following information in accordance with Figure 1:

(a) The statement: “MOTOR HOME OCCUPANT AND CARGO CARRYING CAPACITY” in block letters.

(b) The Vehicle Identification Number (VIN).

(c) The statement “THE COMBINED WEIGHT OF OCCUPANTS AND CARGO SHOULD NEVER EXCEED: XXX kg or XXX lbs” in block letters with appropriate values included.

(d) The statement “Safety belt equipped seating capacity: XXX” with the appropriate value included. This is the total number of safety belt equipped seating positions.

(e) The statement: “CAUTION: A full load of water equals XXX kg or XXX lbs of cargo @ 1 kg/L (8.3 lb/gal) and the tongue weight of a towed trailer counts as cargo” with appropriate values included.

S10.4.5 Permanent and temporary RV trailer CCC labels must contain the following information in accordance with Figure 2:

(a) The statement: “RECREATION VEHICLE TRAILER CARGO CARRYING CAPACITY” in block letters.

(b) The Vehicle Identification Number (VIN).

(c) The statement: “THE WEIGHT OF CARGO SHOULD NEVER EXCEED: XXX kg or XXX lbs” in block letters with appropriate values included.

(d) The statement: “CAUTION: A full load of water equals XXX kg or XXX lbs of cargo @ 1 kg/L (8.3 lb/gal)” with appropriate values included.

S10.5 Weight added to motor homes and RV trailers between final vehicle certification and first retail sale of the vehicle.

S10.5.1 If weight exceeding 45.4 kg (100 pounds) is added to a motor home or RV trailer between final vehicle certification and first retail sale of the vehicle, the load carrying capacity values on the RV load carrying capacity labels (Figures 1 and 2) required by S10.4 must be corrected using one or a combination of the following methods:

(a) Permanently affix the load carrying capacity modification label (Figure 3) which displays the amount the load carrying capacity is reduced to the nearest kilogram with conversion to the nearest pound, within 25 millimeters of the original, permanent RV load carrying capacity label (Figure 1 or 2). The load carrying capacity modification label must be legible, visible, permanent, moisture resistant, presented in the English language, have a minimum print size of 2.4 millimeters (3/32 inches) high and be printed in black print on a yellow background. If the manufacturer selects S10.4.3(b), apply a temporary version of the load carrying capacity modification label (Figure 3) within 25 millimeters of the original, temporary RV load carrying capacity label (Figure 1 or 2) on the interior of the forward-most exterior passenger door on the right side of the vehicle. Both temporary and permanent versions of the load carrying capacity modification label (Figure 3) may be printed without values and values may be legibly applied to the label with a black, fine point, indelible marker. The label must contain the statements “CAUTION—LOAD CARRYING CAPACITY REDUCED” in block letters and “Modifications to this vehicle have reduced the original load carrying capacity by XXX kg or XXX lbs” in accordance with Figure 3 with appropriate values in place of XXX. If two load carrying capacity modification labels are required (one permanent and one temporary), the weight values on each must agree, or

(b) Modify the original permanent RV load carrying capacity label (Figure 1 or 2) with correct load carrying capacity weight values. If the manufacturer selects S10.4.3(b), the temporary RV load carrying capacity label (Figure 1 or 2) must also be modified with correct load carrying capacity weight values. Modification of labels requires a machine printed overlay with printed corrected values or blanks for corrected values that may be entered with a black, fine-point, indelible marker. Crossing out old values and entering corrected values on the original label is not permissible, or

(c) Replace the original, permanent RV load carrying capacity label (Figure 1 or 2) with the same label containing correct load carrying capacity weight values. If the manufacturer selects S10.4.3(b), the temporary RV load carrying capacity label (Figure 1 or 2) must also be replaced with the same label containing correct load carrying capacity weight values.

S10.5.2 Corrected load carrying capacity weight values or the weight amount the load carrying capacity is reduced, must reflect the total weight added between final vehicle certification and first retail sale and must be accurate within one percent of the actual added weight. No re-labeling is required if the weight of the vehicle is reduced between final vehicle certification and the first retail sale.

6. Section 571.120 of title 49, Code of Federal Regulations, is amended by adding, after S10, Figure 1, Figure 2, and Figure 3 to read as follows:

Note: This appendix will not appear in the Code of Federal Regulations.

Appendix A—Label Requirements for Various Vehicle/GVWR Combinations

The following scenarios summarize the label requirements for various vehicle/GVWR combinations.

Note: This explanation is offered as a guide to the various labels and figure numbers. An explanation of the labels applicable to each vehicle type (i.e., light vehicles other than RVs, light RVs, and heavy RVs) is set forth below.

Except for the motor home and RV trailer supplemental labels in the amendment to FMVSS No. 110 (Figures 5 and 6), light RVs and heavy RVs use the same motor home OCCC label and the same RV trailer CCC labels. Also both light and heavy RVs use the same load carrying capacity modification label. As light vehicles are addressed by FMVSS No. 110 and heavy vehicles are addressed by FMVSS No. 120, regulatory text and figures containing labels had to be placed in each of the two standards. FMVSS No. 110 already contained two figures; therefore the new labels begin with Figure 3. FMVSS No. 120 had no existing figures; therefore the new labels begin with Figure 1. For example:

• The motor home OCCC label in FMVSS No. 110, Figure 3 is the same as the motor home OCCC label in FMVSS No. 120, Figure 1.

• The RV trailer CCC label in FMVSS No. 110, Figure 4 is the same as the RV trailer CCC label in FMVSS No. 120, Figure 2.

• The load carrying capacity modification label FMVSS No. 110, Figure 7 is the same as the load carrying capacity modification label in FMVSS No. 120, Figure 3.

Figure numbers in the following scenarios refer to the figures in the regulatory text for the amendments to FMVSS Nos. 110 and 120.

Light Vehicles Other Than RVs

• If weight added after final vehicle certification and before first retail sale exceeds the lesser of 1.5 percent of GVWR or 100 pounds, then

○ Correct the load carrying capacity information by modifying or replacing the FMVSS No. 110 tire placard, or

○ Install the load carrying capacity modification label (amendment to Standard No. 110, Figure 7) within 25 mm of the FMVSS No. 110 tire placard showing the amount the load carrying capacity is reduced.

Light RVs

• Option 1—Install a permanent motor home OCCC label or RV trailer CCC label (amendment to Standard No. 110, Figure 3 or 4) visibly on the interior of the forward-most exterior passenger door on the right side of the vehicle.

○ If weight added after final vehicle certification and before first retail sale exceeds the lesser of 1.5 percent of GVWR or 100 pounds, then

■ Correct the load carrying capacity information by modifying or replacing the FMVSS No. 110 tire placard and the permanent motor home OCCC label or RV trailer CCC label, or

■ Install permanent load carrying capacity modification labels (amendment to Standard No. 110, Figure 7) within 25 mm of the FMVSS No. 110 tire placard and within 25 mm of the permanent motor home OCCC label or RV trailer CCC label showing the amount the load carrying capacity is reduced (two load carrying capacity modification labels are required because on a light RV, load carrying capacity information appears on both the tire placard and the motor home OCCC label or RV trailer CCC label).

• Option 2—Install a temporary version of the motor home OCCC label or RV trailer CCC label (amendment to Standard No. 110, Figure 3 or 4) visibly on the interior of the forward-most exterior passenger door on the right side of the vehicle and install a permanent motor home or RV trailer supplemental label (amendment to Standard No. 110, Figure 5 or 6) within 25 mm of the FMVSS No. 110 tire placard (motor home and RV trailer supplemental labels do not duplicate information that already exists on the tire placard).

○ If weight added after final vehicle certification and before first retail sale exceeds the lesser of 1.5 percent of GVWR or 100 pounds, then

■ Correct the load carrying capacity information by modifying or replacing the tire placard and the temporary version of the motor home OCCC label or RV trailer CCC label, or

■ Install a permanent load carrying capacity modification label (amendment to Standard No. 110, Figure 7) within 25 mm of the tire placard and install a temporary version of the load carrying capacity modification label (amendment to Standard No. 110, Figure 7) within 25 mm of the temporary version of the motor home OCCC label or RV trailer CCC label in the specified location. The permanent and temporary version of the load carrying capacity modification label will display the amount the load carrying capacity is reduced. This scenario would have both the supplemental label (Figure 5 or 6) and the permanent load carrying capacity modification label (Figure 7) installed within 25 mm of the placard (Figure 1).

Heavy RVs

• Option 1—Install a permanent motor home OCCC label or RV trailer CCC label (amendment to Standard No. 120, Figure 1 or 2) visibly on the interior of the forward-most exterior passenger door on the right side of the vehicle.

○ If weight added after final vehicle certification and before first retail sale exceeds 100 pounds, then

■ Correct the load carrying capacity information by modifying or replacing the permanent motor home OCCC label or RV trailer CCC label, or

■ Install a permanent load carrying capacity modification label (amendment to Standard No. 120, Figure 3) within 25 mm of the permanent motor home OCCC label or RV trailer CCC label showing the amount the load carrying capacity is reduced.

• Option 2—Install a temporary version of the motor home OCCC label or RV trailer CCC label (amendment to Standard No. 120, Figure 1 or 2) visibly on the interior of the forward-most exterior passenger door on the right side of the vehicle and install a permanent motor home OCCC label or RV trailer CCC label in the area specified for tire information by FMVSS No. 120.¹⁴

¹⁴ FMVSS No. 120, S5.3(a) provides the option of including tire information on the certification label required by 49 CFR § 567.4 or § 567.5. FMVSS No. 120, S5.3(b) provides the option of including the tire information on a tire information label affixed to the vehicle in the manner, location and form described in § 567.4(b) through (f). Note that § 567(d) applies only to trailers.

○ If weight added after final vehicle certification and before first retail sale exceeds 100 pounds, then

■ Correct the load carrying capacity information by modifying or replacing both the permanent and temporary motor home OCCC labels or RV trailer CCC labels, or

■ Install a permanent load carrying capacity modification label (amendment to Standard No. 120, Figure 3) within 25 mm of the permanent motor home OCCC label or RV trailer CCC label and install a temporary version of the load carrying capacity modification label (amendment to Standard No. 120, Figure 3) within 25 mm of the temporary motor home OCCC label or RV trailer CCC label showing the amount the load carrying capacity is reduced.

Issued on: November 20, 2007.
Nicole R. Nason,
Administrator.

[FR Doc. E7-22962 Filed 12-3-07; 8:45 am]

BILLING CODE 4910-59-P